DEPARTMENT OF COMMERCE

National Oceanic and Atmospheric Administration

50 CFR Part 679

[Docket No. 101126521-0640-02]

RIN 0648-XZ90

Fisheries of the Exclusive Economic Zone Off Alaska; Bering Sea and Aleutian Islands; Final 2011 and 2012 Harvest Specifications for Groundfish

AGENCY: National Marine Fisheries Service (NMFS), National Oceanic and Atmospheric Administration (NOAA), Commerce.

ACTION: Final rule; closures.

SUMMARY: NMFS announces final 2011 and 2012 harvest specifications and prohibited species catch allowances for the groundfish fishery of the Bering Sea and Aleutian Islands management area (BSAI). This action is necessary to establish harvest limits for groundfish during the 2011 and 2012 fishing years, and to accomplish the goals and objectives of the Fishery Management Plan for Groundfish of the BSAI (FMP). The intended effect of this action is to conserve and manage the groundfish resources in the BSAI in accordance with the Magnuson-Stevens Fishery Conservation and Management Act (Magnuson-Stevens Act).

DATES: Effective from 1200 hrs, Alaska local time (A.l.t.), March 1, 2011, through 2400 hrs, A.l.t., December 31, 2012.

ADDRESSES: Electronic copies of the Final Alaska Groundfish Harvest Specifications Environmental Impact Statement (EIS), Record of Decision (ROD), Supplementary Information Report (SIR) to the EIS, the Final Regulatory Flexibility Analysis (FRFA), and Supplemental FRFA prepared for this action are available from http://alaskafisheries.noaa.gov. The final 2010 Stock Assessment and Fishery Evaluation (SAFE) report for the groundfish resources of the BSAI, dated November 2010, is available from the North Pacific Fishery Management Council (Council) at 605 West 4th Avenue, Suite 306, Anchorage, AK 99510-2252, phone 907-271-2809, or from the Council's Web site at http://alaskafisheries.noaa.gov/npfmc.

FOR FURTHER INFORMATION CONTACT: Steve Whitney, 907-586-7269.

SUPPLEMENTARY INFORMATION: Federal regulations at 50 CFR part 679 implement the FMP and govern the groundfish fisheries in the BSAI. The North Pacific Fishery Management Council (Council) prepared the FMP, and NMFS approved it under the Magnuson-Stevens Act. General regulations governing U.S. fisheries also appear at 50 CFR part 600.

The FMP and its implementing regulations require NMFS, after consultation with the Council, to specify the total allowable catch (TAC) for each target species; the sum must be within the optimum yield (OY) range of 1.4 million to 2.0 million metric tons (mt) (see § 679.20(a)(1)(i)). NMFS also must specify apportionments of TACs, prohibited species catch (PSC) allowances, and prohibited species quota (PSQ) reserves established by § 679.21; seasonal allowances of pollock, Pacific cod, and Atka mackerel TAC; Amendment 80 allocations; and Community Development Quota (CDQ) reserve amounts established by § 679.20(b)(1)(ii). The final harvest specifications set forth in Tables 1 through 16 of this action satisfy these requirements. The sum of TACs is 2,000,000 mt for 2011 and is 2,000,000 mt for 2012.

Section 679.20(c)(3)(i) further requires NMFS to consider public comment on the proposed annual TACs (and apportionments thereof) and PSC allowances, and to publish final harvest specifications in the Federal Register. The proposed 2011 and 2012 harvest specifications and PSC allowances for the groundfish fishery of the BSAI were published in the Federal Register on December 8, 2010 (75 FR 76372). Comments were invited and accepted through January 7, 2011. NMFS received 9 letters with 4 comments on the proposed harvest specifications. These comments are summarized and responded to in the “Response to Comments” section of this rule. NMFS consulted with the Council on the final 2011 and 2012 harvest specifications during the December 2010 Council meeting in Anchorage, AK. After considering public comments, as well as biological and economic data that were available at the Council's December meeting, NMFS is implementing the final 2011 and 2012 harvest specifications as recommended by the Council.

Acceptable Biological Catch (ABC) and TAC Harvest Specifications

The final ABC levels are based on the best available biological and socioeconomic information, including projected biomass trends, information on assumed distribution of stock biomass, and revised technical methods used to calculate stock biomass. In general, the development of ABCs and overfishing levels (OFLs) involves sophisticated statistical analyses of fish populations. The FMP specifies a series of six tiers to define OFL and ABC amounts based on the level of reliable information available to fishery scientists. Tier one represents the highest level of information quality available while tier six represents the lowest.

In December 2010, the Scientific and Statistical Committee (SSC), Advisory Panel (AP), and Council reviewed current biological information about the condition of the BSAI groundfish stocks. The Council's Plan Team compiled and presented this information in the 2010 SAFE report for the BSAI groundfish fisheries, dated November 2010. The SAFE report contains a review of the latest scientific analyses and estimates of each species' biomass and other biological parameters, as well as summaries of the available information on the BSAI ecosystem and the economic condition of groundfish fisheries off Alaska. The SAFE report was made available for public review upon notification of the proposed harvest specifications. The 2010 SAFE report continues to be available for public review (see ADDRESSES). From these data and analyses, the Plan Team estimated an OFL and ABC for each species or species category.

In December 2010, the SSC, AP, and Council reviewed the Plan Team's recommendations. The SSC concurred with the Plan Team's recommendations, and the Council adopted the OFL and ABC amounts recommended by the SSC (Table 1). The final TAC recommendations were based on the ABCs as adjusted for other biological and socioeconomic considerations, including maintaining the sum of the TACs within the required OY range of 1.4 million to 2.0 million mt. The Council adopted the AP's 2011 and 2012 TAC recommendations. As required by annual catch limit rules (FR 74 3178, January 16, 2009), none of the Council's recommended TACs for 2011 or 2012 exceeds the final 2011 or 2012 ABCs for any species category. The final 2010 and 2011 harvest specifications approved by the Secretary are unchanged from those recommended by the Council and are consistent with the preferred harvest strategy alternative in the EIS (see ADDRESSES). NMFS finds that the Council's recommended OFLs, ABCs, and TACs are consistent with the biological condition of groundfish stocks as described in the 2010 SAFE report that was approved by the Council.

Other Actions Potentially Affecting the 2011 and 2012 Harvest Specifications

NMFS intends to develop a single database that stock assessment authors can access through a single source such as the Alaska Fisheries Information Network. The development of this database will require the cooperation of several agencies, including NMFS, the Alaska Department of Fish and Game, and the International Pacific Halibut Commission (IPHC). At its October 2010 meeting, the Council's groundfish Plan Teams recommended the formation of a total catch accounting working group to assist NMFS in developing a methodology to estimate total catch of groundfish. While much of the information is currently available and will be incorporated into the final 2010 SAFE reports, the development of an adequate methodology is ongoing and not fully ready for use in the final SAFE reports. NMFS intends to have the information available for the assessment cycle in the fall of 2011.

The Council is currently considering an action to modify the non-Chinook salmon management measures to minimize non-Chinook salmon bycatch. This potential action could impose cap threshold limits, sector specific allocations, and area specific closures for BSAI groundfish closures. This action is not expected to be in place by the 2012 fishing year.

The Council has approved a new program to replace the Gulf of Alaska Rockfish Pilot Program (Rockfish Program), which is scheduled to expire on December 31, 2011. NMFS is currently developing regulations to implement this program. The new rockfish program could alter BSAI groundfish sideboards for vessels participating in the Rockfish Program. This new program is expected to be in place for the 2012 fishing year.

In 2010, NMFS Alaska Region completed a Section 7 formal consultation on the effects of the authorization of the Alaska groundfish fisheries on Endangered Species Act listed species under NMFS jurisdiction. The consultation resulted in a biological opinion that determined that the effects of the Alaska groundfish fisheries were likely to jeopardize the continued existence of, and adversely modify designated critical habitat for, the western distinct population segment of Steller sea lions. The biological opinion included a reasonable and prudent alternative (RPA) that requires changes to the BSAI Atka mackerel and Aleutian Islands subarea Pacific cod fisheries to prevent the likelihood of jeopardy of extinction or adverse modification of critical habitat for Steller sea lions. Separate rulemaking for implementation of the RPA became effective January 1, 2011 (FR 75 77535, December 13, 2010; and 75 FR 81921, December 29, 2010). Changes to the Atka mackerel and Pacific cod harvest specifications that are required by the rule implementing the RPA are described in the section for each of these target species. The proposed harvest specifications notified the public of possible changes to the harvest specification limits.

At the October 2010 meeting, the Council and the Scientific and Statistical Committee (SSC) recommended separating Kamchatka flounder from the arrowtooth flounder complex starting in the year 2011. As a result, arrowtooth flounder and Kamchatka flounder have separate OFLs, ABCs, and TACs for 2011 and 2012. In the proposed 2011 and 2012 harvest specifications NMFS requested public comment on the proposal to allocate 10.7 percent of the Kamchatka flounder TAC to the CDQ Program. Six comments were received, and NMFS has determined to not allocate Kamchatka flounder to the six CDQ groups in 2011. See the Response to Comments section below.

Changes From the Proposed 2010 and 2011 Harvest Specifications in the BSAI

In October 2010, the Council made its recommendations for the proposed 2011 and 2012 harvest specifications (75 FR 76372, December 8, 2010), based largely on information contained in the 2009 SAFE report for the BSAI groundfish fisheries. Through the proposed harvest specifications, NMFS notified the public that these harvest specifications were subject to change and that the Council would consider information contained in the 2010 SAFE report, recommendations from the SSC, Plan Team, and AP committees, and public testimony when making its recommendations for final harvest specification levels at the December Council meeting. NMFS further notified the public that, as required by the BSAI Groundfish FMP and its implementing regulations, the sum of the TACs must be within the optimum yield range of 1.4 and 2.0 million metric tons.

Information contained in the 2010 SAFE reports indicates an increase in biomass for several groundfish species. At the December Council meeting, the SSC recommended increasing the ABCs for many species in 2011 and 2012 based on the best and most recent information contained in the 2010 SAFE reports. This increase resulted in an ABC sum total that exceeds 2 million metric tons for both 2011 and 2012. Based on the SSC ABC recommendations and the 2010 SAFE reports, the AP recommended raising the TACs for more economically valuable species that have increasing biomasses such as pollock, Pacific cod, Pacific ocean perch, and Atka mackerel in the Eastern Aleutian Islands and Bering Sea subarea. Because these increases caused the sum of the TACs to exceed the 2 million metric ton limit, section 3.2.3.4 of the BSAI FMP required that the TACs be adjusted. The AP recommended a downward adjustment of TACs for several species that are not part of the directed fishery and that are easily avoided, such as octopuses, sculpins, sharks, skates, squid, and Alaska plaice. After receiving testimony from the Amendment 80 cooperatives, the AP recommended a reduction in Amendment 80 flatfish species TACs and arrowtooth flounder TAC to levels that the Amendment 80 fleet believed they could harvest given their PSC constraints. The Council accepted the SSC and AP recommendations.

The changes to TAC between the proposed and final harvest specifications are based on the most recent scientific and economic information and are consistent with the FMP and regulatory obligations and harvest strategy as described in the proposed harvest specifications. These changes are compared in the following table.

Table 1 lists the Council's recommended final 2011 and 2012 OFL, ABC, TAC, initial TAC (ITAC) and CDQ reserve amounts of the BSAI groundfish. NMFS concurs with these recommendations. The final 2011 and 2012 TAC recommendations for the BSAI are within the OY range established for the BSAI and do not exceed the ABC for any single species or complex. The apportionment of TAC amounts among fisheries and seasons is discussed below.

Comparison of Final 2011 and 2012 With Proposed 2011 and 2012 Total Allowable Catch in the BSAI
[Amounts are in metric tons]
Species | Area ¹ | 2011 final TAC | 2011 proposed TAC | 2011 difference from proposed | 2012 final TAC | 2012 proposed TAC | 2012 difference from proposed
Pollock | BS | 1,252,000 | 1,107,000 | 145,000 | 1,253,658 | 1,105,000 | 148,658
| AI | 19,000 | 19,000 | 0 | 19,000 | 19,000 | 0
| Bogoslof | 150 | 75 | 75 | 150 | 75 | 75
Pacific cod | BSAI | 227,950 | 207,580 | 20,370 | 229,608 | 207,580 | 22,028
Sablefish | BS | 2,850 | 2,500 | 350 | 2,610 | 2,500 | 110
| AI | 1,900 | 1,860 | 40 | 1,740 | 1,860 | −120
Atka mackerel | EAI/BS | 40,300 | 20,900 | 19,400 | 36,800 | 20,900 | 15,900
| CAI | 11,280 | 26,000 | −14,720 | 10,293 | 26,000 | −15,707
| WAI | 1,500 | 18,100 | −16,600 | 1,500 | 18,100 | −16,600
Yellowfin sole | BSAI | 196,000 | 213,000 | −17,000 | 197,660 | 213,000 | −15,340
Rock sole | BSAI | 85,000 | 90,000 | −5,000 | 85,000 | 90,000 | −5,000
Greenland turbot | BS | 3,500 | 3,700 | −200 | 3,500 | 3,700 | −200
| AI | 1,550 | 1,670 | −120 | 1,450 | 1,670 | −220
Arrowtooth flounder | BSAI | 25,900 | 60,000 | −34,100 | 25,900 | 60,000 | −34,100
Kamchatka flounder | BSAI | 17,700 | 17,700 | 0 | 17,700 | 17,700 | 0
Flathead sole | BSAI | 41,548 | 60,000 | −18,452 | 41,548 | 60,000 | −18,452
Other flatfish | BSAI | 3,000 | 17,300 | −14,300 | 3,000 | 17,300 | −14,300
Alaska plaice | BSAI | 16,000 | 40,000 | −24,000 | 16,000 | 40,000 | −24,000
Pacific ocean perch | BS | 5,710 | 3,790 | 1,920 | 5,710 | 3,790 | 1,920
| EAI | 5,660 | 4,180 | 1,480 | 5,660 | 4,180 | 1,480
| CAI | 4,960 | 4,230 | 730 | 4,960 | 4,230 | 730
| WAI | 8,370 | 6,480 | 1,890 | 8,370 | 6,480 | 1,890
Northern rockfish | BSAI | 4,000 | 7,290 | −3,290 | 4,000 | 7,290 | −3,290
Shortraker rockfish | BSAI | 393 | 387 | 6 | 393 | 387 | 6
Rougheye rockfish ² | BS/EAI | 234 | 42 | 192 | 240 | 42 | 198
| CAI/WAI | 220 | 489 | −269 | 225 | 489 | −264
Other rockfish | BS | 500 | 485 | 15 | 500 | 485 | 15
| AI | 500 | 555 | −55 | 500 | 555 | −55
Squid | BSAI | 425 | 1,970 | −1,545 | 425 | 1,970 | −1,545
Skates | BSAI | 16,500 | 30,000 | −13,500 | 16,500 | 30,000 | −13,500
Sharks | BSAI | 50 | 449 | −399 | 50 | 449 | −399
Octopuses | BSAI | 150 | 233 | −83 | 150 | 233 | −83
Sculpins | BSAI | 5,200 | 30,035 | −24,835 | 5,200 | 30,035 | −24,835
Total | BSAI | 2,000,000 | 1,997,000 | 3,000 | 2,000,000 | 1,995,000 | 5,000
¹ Bering Sea subarea (BS), Aleutian Islands subarea (AI), Bering Sea and Aleutian Islands management area (BSAI), Eastern Aleutian District (EAI), Central Aleutian District (CAI), and Western Aleutian District (WAI).
² The proposed rule split rougheye rockfish TACs by the Aleutian Islands, and the Bering Sea. The final rule splits rougheye rockfish by the Bering Sea and Eastern Aleutians District, and the Central Aleutian District and Western Aleutian District.

Table 1—Final 2011 and 2012 Overfishing Level (Ofl), Acceptable Biological Catch (ABC), Total Allowable Catch (TAC), Initial TAC (ITAC), and CDQ Reserve Allocation of Groundfish in the BSAI ¹
[Amounts are in metric tons]
Species | Area | 2011: OFL | 2011: ABC | 2011: TAC | 2011: ITAC ² | 2011: CDQ ³ | 2012: OFL | 2012: ABC | 2012: TAC | 2012: ITAC ² | 2012: CDQ ³
Pollock ³ | BS ² | 2,450,000 | 1,270,000 | 1,252,000 | 1,126,800 | 125,200 | 3,170,000 | 1,600,000 | 1,253,658 | 1,128,292 | 125,366
| AI ² | 44,500 | 36,700 | 19,000 | 17,100 | 1,900 | 50,400 | 41,600 | 19,000 | 17,100 | 1,900
| Bogoslof | 22,000 | 156 | 150 | 150 | 0 | 22,000 | 156 | 150 | 150 | 0
Pacific cod 4, 5 | BSAI | 272,000 | 235,000 | 227,950 | 203,559 | 24,391 | 329,000 | 281,000 | 229,608 | 205,040 | 24,568
Sablefish ⁵ | BS | 3,360 | 2,850 | 2,850 | 2,351 | 392 | 3,080 | 2,610 | 2,610 | 1,109 | 98
| AI | 2,250 | 1,900 | 1,900 | 1,544 | 321 | 2,060 | 1,740 | 1,740 | 370 | 33
Atka mackerel ⁵ | BSAI | 101,000 | 85,300 | 53,080 | 47,400 | 5,680 | 92,200 | 77,900 | 48,593 | 43,394 | 5,199
| EAI/BS | n/a | 40,300 | 40,300 | 35,988 | 4,312 | n/a | 36,800 | 36,800 | 32,862 | 3,938
| CAI | n/a | 24,000 | 11,280 | 10,073 | 1,207 | n/a | 21,900 | 10,293 | 9,192 | 1,101
| WAI | n/a | 21,000 | 1,500 | 1,340 | 161 | n/a | 19,200 | 1,500 | 1,340 | 161
Yellowfin sole ⁵ | BSAI | 262,000 | 239,000 | 196,000 | 175,028 | 20,972 | 266,000 | 242,000 | 197,660 | 176,510 | 21,150
Rock sole 5, 6 | BSAI | 248,000 | 224,000 | 85,000 | 75,905 | 9,095 | 243,000 | 219,000 | 85,000 | 75,905 | 9,095
Greenland turbot ⁵ | BSAI | 7,220 | 6,140 | 5,050 | 4,293 | n/a | 6,760 | 5,750 | 4,950 | 4,208 | n/a
| BS | n/a | 4,590 | 3,500 | 2,975 | 375 | n/a | 4,300 | 3,500 | 2,975 | 375
| AI | n/a | 1,550 | 1,550 | 1,318 | 0 | n/a | 1,450 | 1,450 | 1,233 | 0
Arrowtooth flounder ⁵ | BSAI | 186,000 | 153,000 | 25,900 | 22,015 | 2,771 | 191,000 | 157,000 | 25,900 | 22,015 | 2,771
Kamchatka flounder | BSAI | 23,600 | 17,700 | 17,700 | 15,045 | 0 | 23,600 | 17,700 | 17,700 | 15,045 | 0
Flathead sole 5, 7 | BSAI | 83,300 | 69,300 | 41,548 | 37,102 | 4,446 | 82,100 | 68,300 | 41,548 | 37,102 | 4,446
Other flatfish ⁸ | BSAI | 19,500 | 14,500 | 3,000 | 2,550 | 0 | 19,500 | 14,500 | 3,000 | 2,550 | 0
Alaska plaice | BSAI | 79,100 | 65,100 | 16,000 | 13,600 | 0 | 83,800 | 69,100 | 16,000 | 13,600 | 0
Pacific ocean perch ⁵ | BSAI | 36,300 | 24,700 | 24,700 | 21,812 | n/a | 34,300 | 24,700 | 24,700 | 21,812 | n/a
| BS | n/a | 5,710 | 5,710 | 4,854 | 0 | n/a | 5,710 | 5,710 | 4,854 | 0
| EAI | n/a | 5,660 | 5,660 | 5,054 | 606 | n/a | 5,660 | 5,660 | 5,054 | 606
| CAI | n/a | 4,960 | 4,960 | 4,429 | 531 | n/a | 4,960 | 4,960 | 4,429 | 531
| WAI | n/a | 8,370 | 8,370 | 7,474 | 896 | n/a | 8,370 | 8,370 | 7,474 | 896
Northern rockfish | BSAI | 10,600 | 8,670 | 4,000 | 3,400 | 0 | 10,400 | 8,330 | 4,000 | 3,400 | 0
Shortraker rockfish | BSAI | 524 | 393 | 393 | 334 | 0 | 524 | 393 | 393 | 334 | 0
Rougheye rockfish ⁹ | BSAI | 549 | 454 | 454 | 386 | 0 | 563 | 465 | 465 | 395 | 0
| EBS/EAI | n/a | 234 | 234 | 199 | 0 | n/a | 240 | 240 | 204 | 0
| CAI/WAI | n/a | 220 | 220 | 187 | 0 | n/a | 225 | 225 | 191 | 0
Other rockfish ¹⁰ | BSAI | 1,700 | 1,280 | 1,000 | 850 | 0 | 1,700 | 1,280 | 1,000 | 850 | 0
| BS | n/a | 710 | 500 | 425 | 0 | n/a | 710 | 500 | 425 | 0
| AI | n/a | 570 | 500 | 425 | 0 | n/a | 570 | 500 | 425 | 0
Squids | BSAI | 2,620 | 1,970 | 425 | 361 | 0 | 2,620 | 1,970 | 425 | 361 | 0
Skates | BSAI | 37,800 | 31,500 | 16,500 | 14,025 | 0 | 37,200 | 31,000 | 16,500 | 14,025 | 0
Sharks | BSAI | 1,360 | 1,020 | 50 | 43 | 0 | 1,360 | 1,020 | 50 | 43 | 0
Octopuses | BSAI | 528 | 396 | 150 | 128 | 0 | 528 | 396 | 150 | 128 | 0
Sculpins | BSAI | 58,300 | 43,700 | 5,200 | 4,420 | 0 | 58,300 | 43,700 | 5,200 | 4,420 | 0
Total |  | 3,954,111 | 2,534,729 | 2,000,000 | 1,790,200 | 199,467 | 4,731,995 | 2,911,610 | 2,000,000 | 1,788,157 | 198,926
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves.
³ Under § 679.20(a)(5)(i)(A)(1), the annual Bering Sea subarea pollock TAC, after subtracting first for the CDQ directed fishing allowance (10 percent) and second for the incidental catch allowance (3.0 percent), is further allocated by sector for a directed pollock fishery as follows: Inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (1,600 mt), is allocated to the Aleut Corporation for a directed pollock fishery.
⁴ The Pacific cod TAC is reduced by three percent from the ABC to account for the State guideline harvest level in State waters of the Aleutian Islands subarea.
⁵ For the Amendment 80 species (Atka mackerel, Aleutian Islands Pacific ocean perch, yellowfin sole, rock sole, flathead sole, and Pacific cod), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish”, Alaska plaice, Bering Sea Pacific ocean perch, northern rockfish, shortraker rockfish, rougheye rockfish, “other rockfish”, octopuses, sculpins, sharks, skates, and squid are not allocated to the CDQ program.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), arrowtooth flounder, flathead sole, Greenland turbot, Kamchatka flounder, rock sole, and yellowfin sole.
⁹ “Rougheye rockfish” includes Sebastes aleutianus (rougheye) and Sebastes melanostictus (blackspotted).
¹⁰ “Other rockfish” includes all Sebastes and Sebastolobus species except for Pacific ocean perch, northern, shortraker, and rougheye rockfish.

Groundfish Reserves and the Incidental Catch Allowance (ICA) for Pollock, Atka Mackerel, Flathead Sole, Rock Sole, Yellowfin Sole, and Aleutian Islands Pacific Ocean Perch

Section 679.20(b)(1)(i) requires the placement of 15 percent of the TAC for each target species, except for pollock, the hook-and-line and pot gear allocation of sablefish, and the Amendment 80 species, in a non-specified reserve. Section 679.20(b)(1)(ii)(B) requires that 20 percent of the hook-and-line and pot gear allocation of sablefish be allocated to the fixed gear sablefish CDQ reserve. Section 679.20(b)(1)(ii)(D) requires allocation of 7.5 percent of the trawl gear allocations of sablefish and 10.7 percent of the Bering Sea Greenland turbot and arrowtooth flounder TACs to the respective CDQ reserves. Section 679.20(b)(1)(ii)(C) requires allocation of 10.7 percent of the TACs for Atka mackerel, Aleutian Islands Pacific ocean perch, yellowfin sole, rock sole, flathead sole, and Pacific cod to the CDQ reserves. Sections 679.20(a)(5)(i)(A) and 679.31(a) also require the allocation of 10 percent of the BSAI pollock TACs to the pollock CDQ directed fishing allowance (DFA). The entire Bogoslof District pollock TAC is allocated as an ICA (see § 679.20(a)(5)(ii)). With the exception of the hook-and-line and pot gear sablefish CDQ reserve, the regulations do not further apportion the CDQ allocations by gear.

Pursuant to § 679.20(a)(5)(i)(A)(1), NMFS allocates a pollock ICA of 3 percent of the BS subarea pollock TAC after subtraction of the 10 percent CDQ reserve. This allowance is based on NMFS' examination of the pollock incidental catch, including the incidental catch by CDQ vessels, in target fisheries other than pollock from 1999 through 2010. During this 12-year period, the pollock incidental catch ranged from a low of 2.4 percent in 2006 to a high of 5 percent in 1999, with a 12-year average of 3 percent. Pursuant to § 679.20(a)(5)(iii)(B)(2)(i) and (ii), NMFS establishes a pollock ICA of 1,600 mt of the AI subarea TAC after subtraction of the 10 percent CDQ DFA. This allowance is based on NMFS' examination of the pollock incidental catch, including the incidental catch by CDQ vessels, in target fisheries other than pollock from 2003 through 2010. During this 8-year period, the incidental catch of pollock ranged from a low of 5 percent in 2006 to a high of 10 percent in 2003, with an 8-year average of 7 percent.

Pursuant to § 679.20(a)(8) and (10), NMFS allocates ICAs of 5,000 mt of flathead sole, 5,000 mt of rock sole, 2,000 mt of yellowfin sole, 10 mt of Western Aleutian District Pacific (WAI) ocean perch, 75 mt of Central Aleutian District (CAI) Pacific ocean perch, 100 mt of Eastern Aleutian District (EAI) Pacific ocean perch, 40 mt of WAI Atka mackerel, 75 mt of CAI Atka mackerel, and 75 mt of EAI and BS subarea Atka mackerel TAC after subtraction of the 10.7 percent CDQ reserve. These allowances are based on NMFS' examination of the incidental catch in other target fisheries from 2003 through 2010.

The regulations do not designate the remainder of the non-specified reserve by species or species group. Any amount of the reserve may be apportioned to a target species category during the year, providing that such apportionments do not result in overfishing (see § 679.20(b)(1)(i)). The Regional Administrator has determined that the ITACs specified for the species listed in Table 2 need to be supplemented from the non-specified reserve because U.S. fishing vessels have demonstrated the capacity to catch the full TAC allocations. Therefore, in accordance with § 679.20(b)(3), NMFS is apportioning the amounts shown in Table 2 from the non-specified reserve to increase the ITAC for northern rockfish, shortraker rockfish, rougheye rockfish, and Bering Sea “other rockfish” by 15 percent of the TAC in 2011 and 2012.

Table 2—Final 2011 and 2012 Apportionment of Reserves to ITAC Categories
[Amounts are in metric tons]
Species-area or subarea | 2011 ITAC | 2011 reserve amount | 2011 final ITAC | 2012 ITAC | 2012 reserve amount | 2012 final ITAC
Shortraker rockfish-BSAI | 334 | 59 | 393 | 334 | 59 | 393
Rougheye rockfish-EBS/EAI | 199 | 35 | 234 | 204 | 36 | 240
Rougheye rockfish-CAI/WAI | 187 | 33 | 220 | 191 | 34 | 225
Northern rockfish-BSAI | 3,400 | 600 | 4,000 | 3,400 | 600 | 4,000
Other rockfish—Bering Sea subarea | 425 | 75 | 500 | 425 | 75 | 500
Total | 4,545 | 802 | 5,347 | 4,554 | 804 | 5,358

Allocation of Pollock TAC Under the American Fisheries Act (AFA)

Section 679.20(a)(5)(i)(A) requires that the pollock TAC apportioned to the BS subarea, after subtraction of the 10 percent for the CDQ program and the 3 percent for the ICA, be allocated as a DFA as follows: 50 percent to the inshore sector, 40 percent to the catcher/processor (C/P) sector, and 10 percent to the mothership sector. In the BS subarea, 40 percent of the DFA is allocated to the A season (January 20-June 10), and 60 percent of the DFA is allocated to the B season (June 10-November 1) (§ 679.20(a)(5)(i)(A)). The AI directed pollock fishery allocation to the Aleut Corporation is the amount of pollock remaining in the AI subarea after subtracting 1,900 mt for the CDQ DFA (10 percent) and 1,600 mt for the ICA (§ 679.20(a)(5)(iii)(B)(2)(ii)). In the AI subarea, 40 percent of the DFA is allocated to the A season and the remainder of the directed pollock fishery is allocated to the B season. Table 3 lists these 2011 and 2012 amounts.

Section 679.20(a)(5)(i)(A)(4) also includes several specific requirements regarding BS subarea pollock allocations. First, 8.5 percent of the pollock allocated to the C/P sector will be available for harvest by AFA catcher vessels (CVs) with C/P sector endorsements, unless the Regional Administrator receives a cooperative contract that provides for the distribution of harvest among AFA C/Ps and AFA CVs in a manner agreed to by all members. Second, AFA C/Ps not listed in the AFA are limited to harvesting not more than 0.5 percent of the pollock allocated to the C/P sector. Table 3 lists the 2011 and 2012 allocations of pollock TAC. Tables 11 through 16 list the AFA C/P and CV harvesting sideboard limits. The tables for the pollock allocations to the BS subarea inshore pollock cooperatives and open access sector will be posted on the Alaska Region Web site at http://alaskafisheries.noaa.gov.

Table 3 also lists seasonal apportionments of pollock and harvest limits within the Steller Sea Lion Conservation Area (SCA). The harvest within the SCA, as defined at § 679.22(a)(7)(vii), is limited to 28 percent of the annual DFA until 12 noon, April 1 as provided in § 679.22(a)(5)(i)(C). The remaining 12 percent of the 40 percent annual DFA allocated to the A season may be taken outside the SCA before 12 noon, April 1 or inside the SCA after 12 noon, April 1. If less than 28 percent of the annual DFA is taken inside the SCA before 12 noon, April 1, the remainder will be available to be taken inside the SCA after 12 noon, April 1. The A season pollock SCA harvest limit will be apportioned to each sector in proportion to each sector's allocated percentage of the DFA. Table 3 lists these 2011 and 2012 amounts by sector.

Table 3—Final 2011 and 2012 Allocations of Pollock TACs to the Directed Pollock Fisheries and to the CDQ Directed Fishing Allowances (DFA)¹
[Amounts are in metric tons]
Area and sector | 2011 Allocations | 2011 A season ¹: A season DFA | 2011 A season ¹: SCA harvest limit ² | 2011 B season ¹: B season DFA | 2012 Allocations | 2012 A season ¹: A season DFA | 2012 A season ¹: SCA harvest limit ² | 2012 B season ¹: B season DFA
Bering Sea subarea | 1,252,000 | n/a | n/a | n/a | 1,253,658 | n/a | n/a | n/a
CDQ DFA | 125,200 | 50,080 | 35,056 | 75,120 | 125,366 | 50,146 | 35,102 | 75,219
ICA ¹ | 33,804 | n/a | n/a | n/a | 33,849 | n/a | n/a | n/a
AFA Inshore | 546,498 | 218,599 | 153,019 | 327,899 | 547,222 | 218,889 | 153,222 | 328,333
AFA Catcher/Processors ³ | 437,198 | 174,879 | 122,416 | 262,319 | 437,777 | 175,111 | 122,578 | 262,666
Catch by C/Ps | 400,037 | 160,015 | n/a | 240,022 | 400,566 | 160,227 | n/a | 240,340
Catch by CVs ³ | 37,162 | 14,865 | n/a | 22,297 | 37,211 | 14,884 | n/a | 22,327
Unlisted C/P Limit ⁴ | 2,186 | 874 | n/a | 1,312 | 2,189 | 876 | n/a | 1,313
AFA Motherships | 109,300 | 43,720 | 30,604 | 65,580 | 109,444 | 43,778 | 30,644 | 65,667
Excessive Harvesting Limit ⁵ | 191,274 | n/a | n/a | n/a | 191,528 | n/a | n/a | n/a
Excessive Processing Limit ⁶ | 327,899 | n/a | n/a | n/a | 328,333 | n/a | n/a | n/a
Total Bering Sea DFA | 1,092,996 | 437,198 | 306,039 | 655,798 | 1,094,443 | 437,777 | 306,444 | 656,666
Aleutian Islands subarea ¹ | 19,000 | n/a | n/a | n/a | 19,000 | n/a | n/a | n/a
CDQ DFA | 1,900 | 760 | n/a | 1,140 | 1,900 | 760 | n/a | 1,140
ICA | 1,600 | 800 | n/a | 800 | 1,600 | 800 | n/a | 800
Aleut Corporation | 15,500 | 15,500 | n/a | 0 | 15,500 | 15,500 | n/a | 0
Bogoslof District ICA ⁷ | 150 | n/a | n/a | n/a | 150 | n/a | n/a | n/a
¹ Pursuant to § 679.20(a)(5)(i)(A), the BS subarea pollock, after subtraction for the CDQ DFA (10 percent) and the ICA (3 percent), is allocated as a DFA as follows: inshore sector—50 percent, catcher/processor sector (C/P)—40 percent, and mothership sector—10 percent. In the BS subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (1,600 mt), is allocated to the Aleut Corporation for a directed pollock fishery. In the AI subarea, the A season is allocated 40 percent of the ABC and the B season is allocated the remainder of the directed pollock fishery.
² In the BS subarea, no more than 28 percent of each sector's annual DFA may be taken from the SCA before April 1. The remaining 12 percent of the annual DFA allocated to the A season may be taken outside of SCA before April 1 or inside the SCA after April 1. If less than 28 percent of the annual DFA is taken inside the SCA before April 1, the remainder will be available to be taken inside the SCA after April 1.
³ Pursuant to § 679.20(a)(5)(i)(A)(4), not less than 8.5 percent of the DFA allocated to listed C/Ps shall be available for harvest only by eligible catcher vessels delivering to listed C/Ps.
⁴ Pursuant to § 679.20(a)(5)(i)(A)(4)(iii), the AFA unlisted C/Ps are limited to harvesting not more than 0.5 percent of the C/Ps sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ The Bogoslof District is closed by the final harvest specifications to directed fishing for pollock. The amounts specified are for ICA only and are not apportioned by season or sector.
Note: Seasonal or sector apportionments may not total precisely due to rounding.

Allocation of the Atka Mackerel TACs

Section 679.20(a)(8) allocates the Atka mackerel TACs to the Amendment 80 and BSAI trawl limited access sectors, after subtraction of the CDQ reserves, jig gear allocation, and ICAs for the BSAI trawl limited access sector and non-trawl gear (Table 4). The process for allocation of the ITAC for Atka mackerel to the Amendment 80 and BSAI trawl limited access sectors is listed in Table 33 to part 679 and § 679.91. Pursuant to § 679.20(a)(8)(i), up to 2 percent of the EAI and the BS subarea Atka mackerel ITAC may be allocated to jig gear. The amount of this allocation is determined annually by the Council based on several criteria, including the anticipated harvest capacity of the jig gear fleet. The Council recommended, and NMFS approves, a 0.5 percent allocation of the Atka mackerel ITAC in the EAI and BS subarea to the jig gear in 2011 and 2012. This percentage is applied after subtraction of the CDQ reserve and the ICA.

The RPA implemented on January 1, 2011, (FR 75 77535, December 13, 2010, and 75 FR 81921, December 29, 2010), requires that NMFS make several changes from the proposed to the final harvest specifications for BSAI Atka mackerel. The platoon management of Atka mackerel harvest inside the harvest limit area is no longer needed because the RPA prohibits all retention of Atka mackerel in Area 543 and requires that nearly all directed fishing for Atka mackerel in waters 0 nm to 20 nm around Steller sea lion sites in Area 542. The harvest limit area limits that were in the proposed harvest specification therefore have been removed from the final harvest specifications in Areas 542 and 543. The TACs in these two areas, which were set to ABC, decreased from the proposed amounts. In area 543, the final amount is set to account for discards in other fisheries since the RPA at § 679.7(a)(19) prohibits retention in Area 543. Also the final Area 542 TAC decreased from the proposed TAC since the RPA at § 679.20(a)(8)(ii)(C)(3) limits the annual TAC for this area to no more than 47 percent of the Area 542 ABC.

Section 679.20(a)(8)(ii)(A) apportions the Atka mackerel ITAC into two equal seasonal allowances. The RPA changed the end of the A season and start of the B season dates at § 679.23(e)(3). The first seasonal allowance is made available for directed fishing with trawl gear from January 20 to June 10 (A season), and the second seasonal allowance is made available from June to November 1 (B season). Also, § 679.23(e)(4)(iii) the RPA applies Atka mackerel seasons to CDQ Atka mackerel fishing. The jig gear allocation is not apportioned by season.

Section 679.20(a)(8)(ii)(C)(ii)(2) requires the Amendment 80 cooperatives and CDQ groups to limit harvest to 10 percent of their Central Aleutian District Atka mackerel allocation equally divided between the A and B seasons within waters 10 nm to 20 nm of Gramp Rock and Tag Island, as described on Table 12 to part 679. Vessels not fishing under the authority of an Amendment 80 cooperative quota or CDQ allocation are prohibited from conducting directed fishing for Atka mackerel inside Steller sea lion critical habitat in the Central Aleutian District.

Table 4 lists these 2011 and 2012 Atka mackerel season and area allowances, as well as the sector allocations. The 2012 allocations for Atka mackerel between Amendment 80 cooperatives and the Amendment 80 limited access sector will not be known until eligible participants apply for participation in the program by November 1, 2011.

Table 4—Final 2011 and 2012 Seasonal and Spatial Allowances, Gear Shares, CDQ Reserve, Incidental Catch Allowance, and Amendment 80 Allocations of the BSAI Atka Mackerel TAC
[Amounts are in metric tons]
Sector ¹ | Season 2, 3, 4 | 2011 allocation by area: Eastern Aleutian District/Bering Sea | 2011 allocation by area: Central Aleutian District ⁵ | 2011 allocation by area: Western Aleutian District | 2012 allocation by area: Eastern Aleutian District/Bering Sea | 2012 allocation by area: Central Aleutian District ⁵ | 2012 allocation by area: Western Aleutian District
TAC | n/a | 40,300 | 11,280 | 1,500 | 36,800 | 10,293 | 1,500
CDQ reserve | Total | 4,312 | 1,207 | 161 | 3,938 | 1,101 | 161
| A | 2,156 | 603 | 80 | 1,969 | 551 | 80
| Critical habitat ⁵ | n/a | 60 | n/a | n/a | 55 | n/a
| B | 2,156 | 603 | 80 | 1,969 | 551 | 80
| Critical habitat ⁵ | n/a | 60 | n/a | n/a | 55 | n/a
ICA | Total | 75 | 75 | 40 | 75 | 75 | 40
Jig ⁶ | Total | 180 | 0 | 0 | 164 | 0 | 0
BSAI trawl limited access | Total | 2,859 | 800 | 0 | 3,262 | 912 | 0
| A | 1,429 | 400 | 0 | 1,631 | 456 | 0
| B | 1,429 | 400 | 0 | 1,631 | 456 | 0
Amendment 80 sectors | Total | 32,875 | 9,198 | 1,300 | 29,361 | 8,205 | 1,300
| A | 16,437 | 4,599 | 650 | 14,681 | 4,102 | 650
| B | 16,437 | 4,599 | 650 | 14,681 | 4,102 | 650
Alaska Groundfish Cooperative | Total | 19,181 | 5,389 | 755 | n/a | n/a | n/a
| A | 9,591 | 2,695 | 377 | n/a | n/a | n/a
| Critical habitat ⁵ | n/a | 269 | n/a | n/a | n/a | n/a
| B | 9,591 | 2,695 | 377 | n/a | n/a | n/a
| Critical habitat ⁵ | n/a | 269 | n/a | n/a | n/a | n/a
Alaska Seafood Cooperative | Total | 13,694 | 3,809 | 545 | n/a | n/a | n/a
| A | 6,847 | 1,904 | 272 | n/a | n/a | n/a
| Critical habitat ⁵ | n/a | 190 | n/a | n/a | n/a | n/a
| B | 6,847 | 1,904 | 272 | n/a | n/a | n/a
| Critical habitat ⁵ | n/a | 190 | n/a | n/a | n/a | n/a
¹ Section 679.20(a)(8)(ii) allocates the Atka mackerel TACs, after subtraction of the CDQ reserves, jig gear allocation, and ICAs to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10 and the B season from June 10 to November 1.
⁵ Section 679.20(a)(8)(ii)(C) requires the TAC in area 542 shall be no more than 47% of ABC, and Atka mackerel harvests for Amendment 80 cooperatives and CDQ groups within waters 10 nm to 20 nm of Gramp Rock and Tag Island, as described Table 12 to part 679, in Area 542 are limited to no more than 10 percent of the Amendment 80 cooperative Atka mackerel allocation or 10 percent of the CDQ Atka mackerel allocation.
⁶ Section 679.20(a)(8)(i) requires that up to 2 percent of the Eastern Aleutian District and the Bering Sea subarea TAC be allocated to jig gear after subtraction of the CDQ reserve and ICA. The amount of this allocation is 0.5 percent. The jig gear allocation is not apportioned by season.
Note: Seasonal or sector apportionments may not total precisely due to rounding.

Allocation of the Pacific Cod ITAC

Section 679.20(a)(7)(i) and (ii) allocates the Pacific cod TAC in the BSAI, after subtraction of 10.7 percent for the CDQ reserve, as follows: 1.4 percent to vessels using jig gear; 2.0 percent to hook-and-line and pot CVs less than 60 ft (18.3 m) length overall (LOA); 0.2 percent to hook-and-line CVs greater than or equal to 60 ft (18.3 m) LOA; 48.7 percent to hook-and-line C/P; 8.4 percent to pot CVs greater than or equal to 60 ft (18.3 m) LOA; 1.5 percent to pot C/Ps; 2.3 percent to AFA trawl C/Ps; 13.4 percent to non-AFA trawl C/Ps; and 22.1 percent to trawl CVs. The ICA for the hook-and-line and pot sectors will be deducted from the aggregate portion of Pacific cod TAC allocated to the hook-and-line and pot sectors. For 2011 and 2012, the Regional Administrator establishes an ICA of 500 mt based on anticipated incidental catch by these sectors in other fisheries. The allocation of the ITAC for Pacific cod to the Amendment 80 sector is established in Table 33 to part 679 and § 679.91. The 2012 allocations for Pacific cod between Amendment 80 cooperatives and the Amendment 80 limited access sector will not be known until November 1, 2011, the date by which the applicants eligible to apply for participation in the Amendment 80 program must file their application. Amendment 80 applications for 2012 have not yet been submitted to NMFS, thereby preventing NMFS from calculating 2012 allocations. NMFS will post 2012 Amendment 80 allocations when they become available in December 2011.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

The CDQ and non-CDQ season allowances by gear based on the 2011 and 2012 Pacific cod TACs are listed in Tables 5a and 5b based on the sector allocation percentages of Pacific cod set forth at §§ 679.20(a)(7)(i)(B) and 679.20(a)(7)(iv)(A); and the seasonal allowances of Pacific cod set forth at § 679.23(e)(5).

The RPA implemented on January 1, 2011 (75 FR 77535, December 13, 2010), includes two prohibitions for Pacific cod. Section 679.7(a)(19) prohibits retention of Pacific cod in Area 543 and § 679.7(a)(23) prohibits directed fishing for Pacific cod with hook-and-line, pot, or jig gear in the Aleutian Islands subarea November 1 through December 31.

Table 5a—Final 2011 Gear Shares and Seasonal Allowances of the BSAI Pacific Cod TAC
[Amounts are in metric tons]
Gear sector | Percent | Share of gear sector total | Share of sector total | Seasonal apportionment: Dates | Seasonal apportionment: Amount
Total TAC | 100 | 227,950 | n/a | n/a | n/a
CDQ | 10.7 | 24,391 | n/a | see § 679.20(a)(7)(i)(B) | n/a
Total hook-and-line/pot gear | 60.8 | 123,764 | n/a | n/a | n/a
Hook-and-line/pot ICA ¹ | n/a | 500 | n/a | see § 679.20(a)(7)(ii)(B) | n/a
Hook-and-line/pot sub-total | n/a | 123,264 | n/a | n/a | n/a
Hook-and-line catcher/processor | 48.7 | n/a | 98,733 | Jan 1-Jun 10 | 50,354
|  |  |  | Jun 10-Dec 31 | 48,379
Hook-and-line catcher vessel ≥ 60 ft LOA | 0.2 | n/a | 405 | Jan 1-Jun 10 | 207
|  |  |  | Jun 10-Dec 31 | 199
Pot catcher/processor | 1.5 | n/a | 3,041 | Jan 1-Jun 10 | 1,551
|  |  |  | Sept 1-Dec 31 | 1,490
Pot catcher vessel ≥ 60 ft LOA | 8.4 | n/a | 17,030 | Jan 1-Jun 10 | 8,685
|  |  |  | Sept 1-Dec 31 | 8,345
Catcher vessel < 60 ft LOA using hook-and-line or pot gear | 2 | n/a | 4,055 | n/a | n/a
Trawl catcher vessel | 22.1 | 44,987 | n/a | Jan 20-Apr 1 | 33,290
|  |  |  | Apr 1-Jun 10 | 4,949
|  |  |  | Jun 10-Nov 1 | 6,748
AFA trawl catcher/processor | 2.3 | 4,682 | n/a | Jan 20-Apr 1 | 3,511
|  |  |  | Apr 1-Jun 10 | 1,170
|  |  |  | Jun 10-Nov 1 | 0
Amendment 80 | 13.4 | 27,277 | n/a | Jan 20-Apr 1 | 20,458
|  |  |  | Apr 1-Jun 10 | 6,819
|  |  |  | Jun 10-Nov 1 | 0
Alaska Groundfish Cooperative | n/a | n/a | 5,079 | Jan 20-Apr 1 | 3,809
|  |  |  | Apr 1-Jun 10 | 1,270
|  |  |  | Jun 10-Nov 1 | 0
Alaska Seafood Cooperative | n/a | n/a | 22,198 | Jan 20-Apr 1 | 16,649
|  |  |  | Apr 1-Jun 10 | 5,550
|  |  |  | Jun 10-Nov 1 | 0
Jig | 1.4 | 2,850 | n/a | Jan 1-Apr 30 | 1,710
|  |  |  | Apr 30-Aug 31 | 570
|  |  |  | Aug 31-Dec 31 | 570
¹ The ICA for the hook-and-line and pot sectors will be deducted from the aggregate portion of Pacific cod TAC allocated to the hook-and-line and pot sectors. The Regional Administrator approves an ICA of 500 mt based on anticipated incidental catch in these fisheries.
Note: Seasonal or sector apportionments may not total precisely due to rounding.

Table 5b—Final 2012 Gear Shares and Seasonal Allowances of the BSAI Pacific Cod TAC
[Amounts are in metric tons]
Gear sector | Percent | Share of gear sector total | Share of sector total | Seasonal apportionment ² ³: Dates | Seasonal apportionment ² ³: Amount
Total TAC | 100 | 229,608 | n/a | n/a | n/a
CDQ | 10.7 | 24,568 | n/a | see § 679.20(a)(7)(i)(B) | n/a
Total hook-and-line/pot gear | 60.8 | 124,664 | n/a | n/a | n/a
Hook-and-line/pot ICA ¹ | n/a | 500 | n/a | see § 679.20(a)(7)(ii)(B) | n/a
Hook-and-line/pot sub-total | n/a | 124,164 | n/a | n/a | n/a
Hook-and-line catcher/processor | 48.7 | n/a | 99,454 | Jan 1-Jun 10 | 50,722
|  |  |  | Jun 10-Dec 31 | 48,732
Hook-and-line catcher vessel ≥ 60 ft LOA | 0.2 | n/a | 408 | Jan 1-Jun 10 | 208
|  |  |  | Jun 10-Dec 31 | 200
Pot catcher/processor | 1.5 | n/a | 3,063 | Jan 1-Jun 10 | 1,562
|  |  |  | Sept 1-Dec 31 | 1,501
Pot catcher vessel ≥ 60 ft LOA | 8.4 | n/a | 17,154 | Jan 1-Jun 10 | 8,749
|  |  |  | Sept 1-Dec 31 | 8,406
Catcher vessel < 60 ft LOA using hook-and-line or pot gear | 2 | n/a | 4,084 | n/a | n/a
Trawl catcher vessel | 22.1 | 45,314 | n/a | Jan 20-Apr 1 | 33,532
|  |  |  | Apr 1-Jun 10 | 4,985
|  |  |  | Jun 10-Nov 1 | 6,797
AFA trawl catcher/processor | 2.3 | 4,716 | n/a | Jan 20-Apr 1 | 3,537
|  |  |  | Apr 1-Jun 10 | 1,179
|  |  |  | Jun 10-Nov 1 | 0
Amendment 80 | 13.4 | 27,475 | n/a | Jan 20-Apr 1 | 20,607
|  |  |  | Apr 1-Jun 10 | 6,869
|  |  |  | Jun 10-Nov 1 | 0
Amendment 80 limited access ² | n/a | n/a | see footnote 2 | Jan 20-Apr 1 | 75%
|  |  |  | Apr 1-Jun 10 | 25%
|  |  |  | Jun 10-Nov 1 | 0
Amendment 80 cooperatives ² | n/a | n/a | see footnote 2 | Jan 20-Apr 1 | 75%
|  |  |  | Apr 1-Jun 10 | 25%
|  |  |  | Jun 10-Nov 1 | 0
Jig | 1.4 | 2,871 | n/a | Jan 1-Apr 30 | 1,722
|  |  |  | Apr 30-Aug 31 | 574
|  |  |  | Aug 31-Dec 31 | 574
¹ The ICA for the hook-and-line and pot sectors will be deducted from the aggregate portion of Pacific cod TAC allocated to the hook-and-line and pot sectors. The Regional Administrator approves an ICA of 500 mt based on anticipated incidental catch in these fisheries.
² The 2012 allocations for Amendment 80 species between Amendment 80 cooperatives and the Amendment 80 limited access sector will not be known November 1, 2011, the date by which the applicants eligible to apply for participation in the Amendment 80 program must file their application.
Note: Seasonal or sector apportionments may not total precisely due to rounding.

Sablefish Gear Allocation

Sections 679.20(a)(4)(iii) and (iv) require the allocation of sablefish TACs for the BS and AI subareas between trawl and hook-and-line or pot gear. Gear allocations of the TACs for the BS subarea are 50 percent for trawl gear and 50 percent for hook-and-line or pot gear. Gear allocations of the TACs for the AI subarea are 25 percent for trawl gear and 75 percent for hook-and-line or pot gear. Section 679.20(b)(1)(ii)(B) requires apportionment of 20 percent of the hook-and-line and pot gear allocation of sablefish to the CDQ reserve. Additionally, § 679.20(b)(1)(ii)(D) requires apportionment of 7.5 percent of the trawl gear allocation of sablefish from the nonspecified reserves, established under § 679.20(b)(1)(i), to the CDQ reserve. The Council recommended that only trawl sablefish TAC be established biennially. This is because the harvest specifications for the hook-and-line gear and pot gear sablefish Individual Fishing Quota (IFQ) fisheries will be limited to the 2011 fishing year to ensure those fisheries are conducted concurrently with the halibut IFQ fishery. Concurrent sablefish and halibut IFQ fisheries reduce the potential for discards of halibut and sablefish in those fisheries. The sablefish IFQ fisheries will remain closed at the beginning of each fishing year until the final specifications for the sablefish IFQ fisheries are in effect. Table 6 lists the 2011 and 2012 gear allocations of the sablefish TAC and CDQ reserve amounts.

Table 6—Final 2011 and 2012 Gear Shares and CDQ Reserve of BSAI Sablefish TACs
[Amounts are in metric tons]
Subarea and gear | Percent of TAC | 2011 Share of TAC | 2011 ITAC | 2011 CDQ reserve | 2012 Share of TAC | 2012 ITAC | 2012 CDQ reserve
Bering Sea:
Trawl ¹ | 50 | 1,425 | 1,211 | 107 | 1,305 | 1,109 | 98
Hook-and-line/pot gear ² | 50 | 1,425 | 1,140 | 285 | n/a | n/a | n/a
Total | 100 | 2,850 | 2,351 | 392 | 1,305 | 1,109 | 98
Aleutian Islands:
Trawl ¹ | 25 | 475 | 404 | 36 | 435 | 370 | 33
Hook-and-line/pot gear ² | 75 | 1,425 | 1,140 | 285 | n/a | n/a | n/a
Total | 100 | 1,900 | 1,544 | 321 | 435 | 370 | 33
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. The Council recommended that specifications for the hook-and-line gear sablefish IFQ fisheries be limited to one year.

Allocation of the AI Pacific Ocean Perch, and BSAI Flathead Sole, Rock Sole, and Yellowfin Sole TACs

Sections 679.20(a)(10)(i) and (ii) require the allocation between the Amendment 80 sector and BSAI trawl limited access sector for AI Pacific ocean perch, and BSAI flathead sole, rock sole, and yellowfin sole TACs, after subtraction of 10.7 percent for the CDQ reserve and an ICA for the BSAI trawl limited access sector and vessels using non-trawl gear. The allocation of the ITAC for AI Pacific ocean perch, and BSAI flathead sole, rock sole, and yellowfin sole to the Amendment 80 sector is established in accordance with Tables 33 and 34 to part 679 and § 679.91. The 2012 allocations for Amendment 80 species between Amendment 80 cooperatives and limited access sector will not be known until November 1, 2011, the date by which the applicants eligible to apply for participation in the Amendment 80 program must file their application. Amendment 80 applications for 2012 have not yet been submitted to NMFS, thereby preventing NMFS from calculating 2012 allocations. NMFS will post 2012 Amendment 80 allocations when they become available in December, 2011. Table 7a and 7b lists the 2011 and 2012 allocations of the AI Pacific ocean perch, and BSAI flathead sole, rock sole, and yellowfin sole TACs.

Table 7a—Final 2011 Community Development Quota (CDQ) Reserves, Incidental Catch Amounts (ICAS), and Amendment 80 Allocations of the Aleutian Islands Pacific Ocean Perch, and BSAI Flathead Sole, Rock Sole, and Yellowfin Sole TACs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 5,660 | 4,960 | 8,370 | 41,548 | 85,000 | 196,000
CDQ | 606 | 531 | 896 | 4,446 | 9,095 | 20,972
ICA | 100 | 75 | 10 | 5,000 | 5,000 | 2,000
BSAI trawl limited access | 495 | 435 | 149 | 0 | 0 | 34,153
Amendment 80 | 4,459 | 3,919 | 7,315 | 32,102 | 70,905 | 138,875
Alaska Groundfish Cooperative | 2,364 | 2,078 | 3,879 | 6,269 | 19,902 | 58,948
Alaska Seafood Cooperative | 2,095 | 1,841 | 3,436 | 25,833 | 51,003 | 79,926
Note: Sector apportionments may not total precisely due to rounding.

Table 7b—Final 2012 Community Development Quota (CDQ) Reserves, Incidental Catch Amounts (ICAS), and Amendment 80 Allocations of the Aleutian Islands Pacific Ocean Perch, and BSAI Flathead Sole, Rock Sole, and Yellowfin Sole TACs
[Amounts are in metric tons]
Sector | Pacific ocean perch: Eastern Aleutian District | Pacific ocean perch: Central Aleutian District | Pacific ocean perch: Western Aleutian District | Flathead sole: BSAI | Rock sole: BSAI | Yellowfin sole: BSAI
TAC | 5,660 | 4,960 | 8,370 | 41,548 | 85,000 | 197,660
CDQ | 606 | 531 | 896 | 4,446 | 9,095 | 21,150
ICA | 100 | 75 | 10 | 5,000 | 5,000 | 2,000
BSAI trawl limited access | 495 | 435 | 149 | 0 | 0 | 34,746
Amendment 80 ¹ | 4,459 | 3,919 | 7,315 | 32,102 | 70,905 | 139,764
¹ The 2012 allocations for Amendment 80 species between Amendment 80 cooperatives and the Amendment 80 limited access sector will not be known until November 1, 2011, the date by which the applicants eligible to apply for participation in the Amendment 80 program must file their application.
Note: Sector apportionments may not total precisely due to rounding.

Allocation of PSC Limits for Halibut, Salmon, Crab, and Herring

Section 679.21(e) sets forth the BSAI PSC limits. Pursuant to § 679.21(e)(1)(iv) and (e)(2), the 2011 and 2012 BSAI halibut mortality limits are 3,675 mt for trawl fisheries and 900 mt for the non-trawl fisheries. Sections 679.21(e)(3)(i)(A)(2) and (e)(4)(i)(A) allocate 326 mt of the trawl halibut mortality limit and 7.5 percent, or 67 mt, of the non-trawl halibut mortality limit as the PSQ reserve for use by the groundfish CDQ program.

Section 679.21(e)(4)(i) authorizes the apportionment of the non-trawl halibut PSC limit into PSC bycatch allowances among six fishery categories. Table 8c lists the fishery bycatch allowances for the trawl and non-trawl fisheries.

Pursuant to section 3.6 of the BSAI FMP, the Council recommends, and NMFS agrees, that certain specified non-trawl fisheries be exempt from the halibut PSC limit. As in past years after consultation with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires legal-size halibut to be retained by vessels using hook-and-line gear if a halibut IFQ permit holder or a hired master is aboard and is holding unused halibut IFQ (subpart D of 50 CFR part 679). In 2010, total groundfish catch for the pot gear fishery in the BSAI was approximately 23,028 mt, with an associated halibut bycatch mortality of about 4 mt.

The 2010 jig gear fishery harvested about 344 mt of groundfish. Most vessels in the jig gear fleet are less than 60 ft (18.3 m) LOA and thus are exempt from observer coverage requirements. As a result, observer data are not available on halibut bycatch in the jig gear fishery. However, as mentioned above, NMFS estimates a negligible amount of halibut bycatch mortality because of the selective nature of jig gear and the low mortality rate of halibut caught with jig gear and released.

In January 2011, NMFS implemented Amendment 91 to the FMP, § 679.21(f)(2), to annually allocate portions of either 47,591 or 60,000 Chinook salmon PSC among the AFA sectors depending upon past catch performance and upon whether or not Chinook salmon bycatch incentive plan agreements are formed. If an AFA sector participates in an approved Chinook salmon bycatch incentive plan agreement, then NMFS will allocate a portion of the 60,000 PSC limit to that sector as specified in § 679.21(f)(3)(iii)(A). If no Chinook salmon bycatch incentive plan agreement is approved, or if the sector has exceeded its performance standard under § 679.21(f)(6), NMFS will allocate a portion of the 47,591 Chinook salmon PSC limit to that sector as specified in § 679.21(f)(3)(iii)(B). In 2011, the Chinook salmon PSC limit is 60,000 and the AFA sector Chinook salmon allocations are seasonally allocated with 70 percent of the allocation for the A season pollock fishery, and 30 percent of the allocation for the B season pollock fishery as stated in § 679.21(f)(3)(iii)(A). The basis for these PSC limits is described in detail in the final rule implementing management measures for Amendment 91 (75 FR 53026, August 30, 2010). NMFS publishes the approved Chinook salmon bycatch incentive plan agreements, 2011 allocations and reports at: http://alaskafisheries.noaa.gov/sustainablefisheries/bycatch/default.htm.

Section 679.21(e)(1)(viii) specifies 700 fish as the 2011 and 2012 Chinook salmon PSC limit for the AI subarea pollock fishery. Section 679.21(e)(3)(i)(A)(3)(i) allocates 7.5 percent, or 53 Chinook salmon, as the AI subarea PSQ for the CDQ program and allocates the remaining 647 Chinook salmon to the non-CDQ fisheries.

Section 679.21(e)(1)(vii) specifies 42,000 fish as the 2011 and 2012 non-Chinook salmon PSC limit. Section 679.21(e)(3)(i)(A)(3)(ii) allocates 10.7 percent, or 4,494 non-Chinook salmon, as the PSQ for the CDQ program and allocates the remaining 37,506 non-Chinook salmon to the non-CDQ fisheries.

PSC limits for crab and herring are specified annually based on abundance and spawning biomass. Pursuant to § 679.21(e)(3)(i)(A)(1), 10.7 percent from each trawl gear PSC limit specified for crab is allocated as a PSQ reserve for use by the groundfish CDQ program.

Based on the 2010 survey data, the red king crab mature female abundance is estimated at 31.5 million red king crabs, and the effective spawning biomass is estimated at 67.4 million lb. Based on the criteria set out at § 679.21(e)(1)(i), the 2011 and 2012 PSC limit of red king crab in Zone 1 for trawl gear is 197,000 animals. This limit derives from the mature female abundance of more than 8.4 million king crab and the effective spawning biomass estimate of more than 55 million lb (24,948 mt).

Section 679.21(e)(3)(ii)(B)(2) establishes criteria under which NMFS must specify an annual red king crab bycatch limit for the Red King Crab Savings Subarea (RKCSS). The regulations limit the RKCSS to up to 25 percent of the red king crab PSC limit based on the need to optimize the groundfish harvest relative to red king crab bycatch. In December 2010, the Council recommended that the red king crab bycatch limit be equal to 25 percent of the red king crab PSC limit within the RKCSS (Table 8b). NMFS concurs in the Council's recommendation.

Based on 2010 survey data, Tanner crab (Chionoecetes bairdi) abundance is estimated at 379 million animals. Pursuant to criteria set out at § 679.21(e)(1)(ii), the calculated 2011 and 2012 C. bairdi crab PSC limit for trawl gear is 830,000 animals in Zone 1 and 2,520,000 animals in Zone 2. These limits are derived from the C. bairdi crab abundance estimate being in excess of the 270 million animals for the Zone 1 allocation and 290 million animals for the Zone 2 allocation, but less than 400 million animals for both Zone allocations.

Pursuant to § 679.21(e)(1)(iii), the PSC limit for snow crab (C. opilio) is based on total abundance as indicated by the NMFS annual bottom trawl survey. The C. opilio crab PSC limit is set at 0.1133 percent of the BS abundance index minus 150,000 crab if left unadjusted. However, if the abundance is less than 4.5 million animals, the minimum PSC limit will be 4,350,000 animals pursuant to § 679.21(e)(1)(iii)(A) and (B). Based on the 2010 survey estimate of 7.467 billion animals, the calculated limit is 8,310,480 animals.

Pursuant to § 679.21(e)(1)(v), the PSC limit of Pacific herring caught while conducting any trawl operation for BSAI groundfish is 1 percent of the annual eastern BS herring biomass. The best estimate of 2011 and 2012 herring biomass is 227,269 mt. This amount was derived using 2010 survey data and an age-structured biomass projection model developed by the Alaska Department of Fish and Game. Therefore, the herring PSC limit for 2011 and 2012 is 2,273 mt for all trawl gear as presented in Tables 8a and b.

Section 679.21(e)(3)(A) requires PSQ reserves to be subtracted from the total trawl PSC limits. The amounts of 2011 PSC limits assigned to the Amendment 80 and BSAI trawl limited access sectors are specified in Table 35 to part 679. The resulting allocation of PSC limit to CDQ PSQ, the Amendment 80 sector, and the BSAI trawl limited access fisheries are listed in Table 8a. Pursuant to § 679.21(e)(1)(iv) and § 679.91(d) through (f), crab and halibut trawl PSC limits assigned to the Amendment 80 sector are then further allocated to Amendment 80 cooperatives as PSC cooperative quota (CQ) as listed in Table 8d. PSC CQ assigned to Amendment 80 cooperatives is not allocated to specific fishery categories. In 2011, there are no vessels in the Amendment 80 limited access sector. NMFS will not know the 2012 PSC allocations between Amendment 80 cooperatives and the Amendment 80 limited access sector until November 1, 2011, the date by which the applicants eligible to apply for participation in the Amendment 80 program must file their application. Section 679.21(e)(3)(i)(B) requires the apportionment of each trawl PSC limit not assigned to Amendment 80 cooperatives into PSC bycatch allowances for seven specified fishery categories.

Section 679.21(e)(5) authorizes NMFS, after consultation with the Council, to establish seasonal apportionments of PSC amounts for the BSAI trawl limited access and Amendment 80 limited access sectors in order to maximize the ability of the fleet to harvest the available groundfish TAC and to minimize bycatch. The factors to be considered are (1) Seasonal distribution of prohibited species; (2) seasonal distribution of target groundfish species; (3) PSC bycatch needs on a seasonal basis relevant to prohibited species biomass; (4) expected variations in bycatch rates throughout the year; (5) expected start of fishing effort; and (6) economic effects of seasonal PSC apportionments on industry sectors. The Council recommended and NMFS approves the seasonal PSC apportionments in Table 8c to maximize harvest among gear types, fisheries, and seasons while minimizing bycatch of PSC based on the above criteria.

Table 8a—Final 2011 and 2012 Apportionment of Prohibited Species Catch Allowances to Non-Trawl Gear, the CDQ Program, Amendment 80, and the BSAI Trawl Limited Access Sectors
PSC species | Total non-trawl PSC | Non-trawl PSC remaining after CDQ PSQ ¹ | Total trawl PSC | Trawl PSC remaining after CDQ PSQ ¹ | CDQ PSQ reserve ¹ | Amendment 80 sector: 2011 | Amendment 80 sector: 2012 | BSAI trawl limited access fishery
Halibut mortality (mt) BSAI | 900 | 832 | 3,675 | 3,349 | 393 | 2,375 | 2,325 | 875
Herring (mt) BSAI | n/a | n/a | 2,273 | n/a | n/a | n/a | n/a | n/a
Red king crab (animals) Zone 1 ² | n/a | n/a | 197,000 | 175,921 | 21,079 | 93,432 | 87,925 | 53,797
C. opilio (animals) COBLZ ² | n/a | n/a | 8,310,480 | 7,421,259 | 889,221 | 3,875,381 | 3,647,549 | 2,385,193
C. bairdi crab (animals) Zone 1 ² | n/a | n/a | 830,000 | 741,190 | 88,810 | 331,608 | 312,115 | 348,285
C. bairdi crab (animals) Zone 2 ² | n/a | n/a | 2,520,000 | 2,250,360 | 269,640 | 565,966 | 532,660 | 1,053,394
¹ Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
² Refer to § 679.2 for definitions of zones.
Note: Sector apportionments may not total precisely due to rounding.

Table 8b—Final 2011 and 2012 Herring and Red King Crab Savings Subarea Prohibited Species Catch Allowances for all Trawl Sectors
Fishery categories | Herring (mt) BSAI | Red king crab (animals) Zone 1
Yellowfin sole | 195 | n/a
Rock sole/flathead sole/other flatfish ¹ | 33 | n/a
Turbot/arrowtooth/sablefish ² | 16 | n/a
Rockfish | 12 | n/a
Pacific cod | 33 | n/a
Midwater trawl pollock | 1,737 | n/a
Pollock/Atka mackerel/other species 3, 4 | 247 | n/a
Red king crab savings subarea non-pelagic trawl gear ⁵ | n/a | 49,250
Total trawl PSC | 2,273 | 197,000
¹ “Other flatfish” for PSC monitoring includes all flatfish species, except for halibut (a prohibited species), arrowtooth flounder, flathead sole, Greenland turbot, Kamchatka flounder, rock sole, and yellowfin sole.
² “Arrowtooth flounder” for PSC monitoring includes Kamchatka flounder.
³ Pollock other than pelagic trawl pollock, Atka mackerel, and “other species” fishery category.
⁴ “Other species” for PSC monitoring includes octopuses, sculpins, sharks, and skates.
⁵ In December 2010, the Council recommended that the red king crab bycatch limit for non-pelagic trawl fisheries within the RKCSS be limited to 25 percent of the red king crab PSC allowance (see § 679.21(e)(3)(ii)(B)(2)).

Table 8c—Final 2011 and 2012 Prohibited Species Bycatch Allowances for the BSAI Trawl Limited Access Sector and Non-Trawl Fisheries
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 47,397 | 2,247,640 | 293,234 | 1,005,879
Rock sole/flathead sole/other flatfish ² | 0 | 0 | 0 | 0 | 0
Turbot/arrowtooth/sablefish ³ | 0 | 0 | 0 | 0 | 0
Rockfish April 15-December 31 | 5 | 0 | 3,821 | 0 | 849
Pacific cod | 453 | 6,000 | 95,523 | 50,816 | 42,424
Pollock/Atka mackerel/other species ⁴ | 250 | 400 | 38,209 | 4,235 | 4,242
Total BSAI trawl limited access PSC | 875 | 53,797 | 2,385,193 | 348,285 | 1,053,394

Non-trawl fisheries | Catcher/ processor | Catcher vessel
Pacific cod—Total | 760 | 15
January 1-June 10 | 455 | 10
June 10-August 15 | 190 | 3
August 15-December 31 | 115 | 2
Other non-trawl—Total | 58
May 1—December 31 | 58
Groundfish pot and jig | Exempt
Sablefish hook-and-line | Exempt
Total non-trawl PSC | 833
¹ Refer to § 679.2 for definitions of areas.
² “Other flatfish” for PSC monitoring includes all flatfish species, except for halibut (a prohibited species), flathead sole, Greenland turbot, rock sole, yellowfin sole, Kamchatka flounder, and arrowtooth flounder.
³ Arrowtooth flounder for PSC monitoring includes Kamchatka flounder.
⁴ “Other species” for PSC monitoring includes octopuses, sculpins, sharks, and skates.

Table 8d-Final 2011 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Seafood Cooperative | 1,643 | 63,631 | 2,502,043 | 233,442 | 390,500
Alaska Groundfish Cooperative | 732 | 29,801 | 1,373,339 | 98,167 | 175,465
¹ Refer to § 679.2 for definitions of zones.
Note: Sector apportionments may not total precisely due to rounding.

Halibut Discard Mortality Rates (DMR)

To monitor halibut bycatch mortality allowances and apportionments, the Regional Administrator uses observed halibut bycatch rates, DMRs, and estimates of groundfish catch to project when a fishery's halibut bycatch mortality allowance or seasonal apportionment is reached. The DMRs are based on the best information available, including information contained in the annual SAFE report.

NMFS approves the halibut DMRs developed and recommended by the IPHC and the Council for the 2011 and 2012 BSAI groundfish fisheries for use in monitoring the 2011 and 2012 halibut bycatch allowances (see Tables 8a-d). The IPHC developed these DMRs for the 2010 and 2012 BSAI fisheries using the 10-year mean DMRs for those fisheries. The IPHC will analyze observer data annually and recommend changes to the DMRs when a fishery DMR shows large variation from the mean. The document justifying these DMRs is available in Appendix 2 in the final 2010 SAFE report dated November 2010 (see ADDRESSES). Table 9 lists the 2011 and 2012 DMRs.

Table 9—Final 2011 and 2012 Pacific Halibut Discard Mortality Rates for the BSAI
Gear | Fishery ¹ | Halibut discard mortality rate (percent)
Non-CDQ hook-and-line | Greenland turbot | 11
| Other species | 10
| Pacific cod | 10
| Rockfish | 9
Non-CDQ trawl | Arrowtooth flounder | 76
| Atka mackerel | 76
| Flathead sole | 74
| Greenland turbot | 67
| Non-pelagic pollock | 73
| Pelagic pollock | 89
| Other flatfish | 72
| Other species | 71
| Pacific cod | 71
| Rockfish | 81
| Rock sole | 82
| Sablefish | 75
| Yellowfin sole | 81
Non-CDQ Pot | Other species ² | 8
| Pacific cod | 8
CDQ trawl | Atka mackerel | 85
| Greenland turbot | 88
| Flathead sole | 84
| Non-pelagic pollock | 85
| Pacific cod | 90
| Pelagic pollock | 90
| Rockfish | 84
| Rock sole | 87
| Yellowfin sole | 85
CDQ hook-and-line | Greenland turbot | 4
| Pacific cod | 10
CDQ pot | Pacific cod | 8
| Sablefish | 32
¹ Arrowtooth flounder includes Kamchatka flounder.
² “Other species” includes octopuses, sculpins, sharks, and skates.

Directed Fishing Closures

In accordance with § 679.20(d)(1)(i), the Regional Administrator may establish a DFA for a species or species group if the Regional Administrator determines that any allocation or apportionment of a target species has been or will be reached. If the Regional Administrator establishes a DFA, and that allowance is or will be reached before the end of the fishing year, NMFS will prohibit directed fishing for that species or species group in the specified subarea or district (see § 697.20(d)(1)(iii)). Similarly, pursuant to § 679.21(e), if the Regional Administrator determines that a fishery category's bycatch allowance of halibut, red king crab, C. bairdi crab, or C. opilio crab for a specified area has been reached, the Regional Administrator will prohibit directed fishing for each species in that category in the specified area.

Based upon historic catch patterns and anticipated fishing activity, the Regional Administrator has determined that the groundfish allocation amounts in Table 10 will be necessary as incidental catch to support other anticipated groundfish fisheries for the 2011 and 2012 fishing years. Consequently, in accordance with § 679.20(d)(1)(i), the Regional Administrator establishes the DFA for the species and species groups in Table 10 as zero. Therefore, in accordance with § 679.20(d)(1)(iii), NMFS is prohibiting directed fishing for these sectors and species in the specified areas effective at 1200 hrs, A.l.t., March 1, 2011, through 2400 hrs, A.l.t., December 31, 2012. Also, for the BSAI trawl limited access sector, bycatch allowances of halibut, red king crab, C. bairdi crab, and C. opilio crab listed in Table 10 are insufficient to support directed fisheries. Therefore, in accordance with § 679.21(e)(7), NMFS is prohibiting directed fishing for these sectors and fishery categories in the specified areas effective at 1200 hrs, A.l.t., March 1, 2011, through 2400 hrs, A.l.t., December 31, 2012.

Table 10—2011 and 2012 Directed Fishing Closures ¹
[Groundfish and halibut amounts are in metric tons. Crab amounts are in number of animals]
Area | Sector | Species | 2011 Incidental catch allowance | 2012 Incidental catch allowance
Bogoslof District | All | Pollock | 150 | 150
Aleutian Islands subarea | All | ICA pollock | 1,600 | 1,600
|  | “Other rockfish” | 425 | 425
Eastern Aleutian District/Bering Sea | Non-amendment 80 and BSAI trawl limited access | ICA Atka mackerel | 75 | 75
Eastern Aleutian District/Bering Sea | All | Rougheye rockfish | 234 | 240
Eastern Aleutian District | Non-amendment 80 and BSAI trawl limited access | ICA Pacific ocean perch | 100 | 100
Central Aleutian District | Non-amendment 80 and BSAI trawl limited access | ICA Atka mackerel | 75 | 75
|  | ICA Pacific ocean perch | 75 | 75
Western Aleutian District | Non-amendment 80 and BSAI trawl limited access | ICA Atka mackerel | 40 | 40
|  | ICA Pacific ocean perch | 10 | 10
Central and Western Aleutian Districts | All | Rougheye rockfish | 220 | 225
Bering Sea subarea | All | Pacific ocean perch | 4,854 | 4,854
|  | “Other rockfish” | 500 | 500
|  | ICA pollock | 45,072 | 45,132
Bering Sea and Aleutian Islands | All | Northern rockfish | 4,000 | 4,000
|  | Shortraker rockfish | 393 | 393
|  | Squids | 361 | 361
|  | Skates | 14,025 | 14,025
|  | Sharks | 43 | 43
|  | Octopuses | 128 | 128
|  | Sculpins | 4,420 | 4,420
| Hook-and-line and pot gear | ICA Pacific cod | 500 | 500
| Non-amendment 80 | ICA flathead sole | 5,000 | 5,000
| ICA rock sole | 10,000 | 10,000
| Non-amendment 80 and BSAI trawl limited access | ICA yellowfin sole | 2,000 | 2,000
| BSAI trawl limited access | Rock sole/flathead sole/other flatfish—halibut mortality, red king crab zone 1, C. opilio COBLZ, C. bairdi Zone 1 and 2 | 0 | 0
|  | Turbot/arrowtooth/sablefish—halibut mortality, red king crab zone 1, C. opilio COBLZ, C. bairdi Zone 1 and 2 | 0 | 0
|  | Rockfish—red king crab zone 1 | 0 | 0
¹ Maximum retainable amounts may be found in Table 11 to 50 CFR part 679.

Closures implemented under the 2010 and 2011 BSAI harvest specifications for groundfish (75 FR 11778, March 12, 2010) remain effective under authority of these final 2011 and 2012 harvest specifications, and are posted at the following Web sites: http://alaskafisheries.noaa.gov/index/infobulletins/infobulletins.asp?Yr=2011 and http://alaskafisheries.noaa.gov/2011/status.htm. While these closures are in effect, the maximum retainable amounts at § 679.20(e) and (f) apply at any time during a fishing trip. These closures to directed fishing are in addition to closures and prohibitions found in regulations at 50 CFR part 679.

Central Gulf of Alaska Rockfish Program

On June 6, 2005, the Council adopted the Rockfish Program to meet the requirements of Section 802 of the Consolidated Appropriations Act of 2004 (Pub. L. 108-199). The basis for the BSAI fishing prohibitions and the CV BSAI Pacific cod sideboard limits of the Rockfish Program are discussed in detail in the final rule for Amendment 68 to the Fishery Management Plan for Groundfish of the Gulf of Alaska (71 FR 67210, November 20, 2006). Pursuant to § 679.82(d)(6)(i), the CV BSAI Pacific cod sideboard limit is 0.0 mt. Therefore, in accordance with § 679.82(d)(7)(ii), NMFS is prohibiting directed fishing for BSAI Pacific cod in July for CVs under the Rockfish Program sideboard limitations.

The Rockfish Program will expire in December 2011. In June 2010, the Council proposed a new program to supersede the existing Rockfish Program by 2012. NMFS is developing rulemaking to implement the Council's revised program. The revised program, if approved by the Secretary, may affect the harvest specifications for 2012.

Listed AFA Catcher/Processor Sideboard Limits

Pursuant to § 679.64(a), the Regional Administrator is responsible for restricting the ability of listed AFA C/Ps to engage in directed fishing for groundfish species other than pollock to protect participants in other groundfish fisheries from adverse effects resulting from the AFA and from fishery cooperatives in the directed pollock fishery. The basis for these sideboard limits is described in detail in the final rules implementing the major provisions of the AFA (67 FR 79692, December 30, 2002) and Amendment 80 (72 FR 52668, September 14, 2007). Table 11 lists the 2011 and 2012 C/P sideboard limits.

All harvest of groundfish sideboard species by listed AFA C/Ps, whether as targeted catch or incidental catch, will be deducted from the sideboard limits in Table 11. However, groundfish sideboard species that are delivered to listed AFA C/Ps by CVs will not be deducted from the 2011 and 2012 sideboard limits for the listed AFA C/Ps.

Table 11—Final 2011 and 2012 Listed BSAI American Fisheries Act Catcher/Processor Groundfish Sideboard Limits
[Amounts are in metric tons]
Target species | Area | 1995-1997: Retained catch | 1995-1997: Total catch | 1995-1997: Ratio of retained catch to total catch | 2011 ITAC available to trawl C/Ps ¹ | 2011 AFA C/P side-board limit | 2012 ITAC available to trawl C/Ps ¹ | 2012 AFA C/P side-board limit
Sablefish trawl | BS | 8 | 497 | 0.016 | 1,211 | 19 | 1,109 | 18
| AI | 0 | 145 | 0 | 404 | 0 | 370 | 0
Atka mackerel | Central AI A season ² | n/a | n/a | 0.115 | 5,037 | 579 | 4,596 | 529
| B season ² | n/a | n/a | 0.115 | 5,037 | 579 | 4,596 | 529
| Western AI A season ² | n/a | n/a | 0.2 | 670 | 134 | 670 | 134
| B season ² | n/a | n/a | 0.2 | 670 | 134 | 670 | 134
Rock sole | BSAI | 6,317 | 169,362 | 0.037 | 75,905 | 2,808 | 75,905 | 2,808
Greenland turbot | BS | 121 | 17,305 | 0.007 | 2,975 | 21 | 2,975 | 21
| AI | 23 | 4,987 | 0.005 | 1,318 | 7 | 1,233 | 6
Arrowtooth flounder | BSAI | 76 | 33,987 | 0.002 | 22,015 | 44 | 22,015 | 44
Kamchatka flounder | BSAI | 76 | 33,987 | 0.002 | 15,045 | 30 | 15,045 | 30
Flathead sole | BSAI | 1,925 | 52,755 | 0.036 | 37,102 | 1,336 | 37,102 | 1,336
Alaska plaice | BSAI | 14 | 9,438 | 0.001 | 13,600 | 14 | 13,600 | 14
Other flatfish | BSAI | 3,058 | 52,298 | 0.058 | 2,550 | 148 | 2,550 | 148
Pacific ocean perch | BS | 12 | 4,879 | 0.002 | 4,854 | 10 | 4,854 | 10
| Eastern AI | 125 | 6,179 | 0.02 | 5,054 | 101 | 5,054 | 101
| Central AI | 3 | 5,698 | 0.001 | 4,429 | 4 | 4,429 | 4
| Western AI | 54 | 13,598 | 0.004 | 7,474 | 30 | 7,474 | 30
Northern rockfish | BSAI | 91 | 13,040 | 0.007 | 4,000 | 28 | 4,000 | 28
Shortraker rockfish | BSAI | 50 | 2,811 | 0.018 | 393 | 7 | 393 | 7
Rougheye rockfish | EBS/EAI | 50 | 2,811 | 0.018 | 234 | 4 | 240 | 4
| CAI/WAI | 50 | 2,811 | 0.018 | 220 | 4 | 225 | 4
Other rockfish | BS | 18 | 621 | 0.029 | 500 | 15 | 500 | 15
| AI | 22 | 806 | 0.027 | 425 | 11 | 425 | 11
Squid | BSAI | 73 | 3,328 | 0.022 | 361 | 8 | 361 | 8
Skates | BSAI | 553 | 68,672 | 0.008 | 14,025 | 112 | 14,025 | 112
Sharks | BSAI | 553 | 68,672 | 0.008 | 43 | 0 | 43 | 0
Octopuses | BSAI | 553 | 68,672 | 0.008 | 128 | 1 | 128 | 1
Sculpins | BSAI | 553 | 68,672 | 0.008 | 4,420 | 35 | 4,420 | 35
¹ Aleutian Islands Pacific ocean perch, and BSAI Atka mackerel, flathead sole, rock sole, yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.

Section 679.64(a)(2) and Tables 40 and 41 of part 679 establish a formula for calculating PSC sideboard limits for listed AFA C/Ps. The basis for these sideboard limits is described in detail in the final rules implementing the major provisions of the AFA (67 FR 79692, December 30, 2002) and Amendment 80 (72 FR 52668, September 14, 2007).

PSC species listed in Table 12 that are caught by listed AFA C/Ps participating in any groundfish fishery other than pollock will accrue against the 2011 and 2012 PSC sideboard limits for the listed AFA C/Ps. Section 679.21(e)(3)(v) authorizes NMFS to close directed fishing for groundfish other than pollock for listed AFA C/Ps once a 2011 or 2012 PSC sideboard limit listed in Table 12 is reached.

Crab or halibut PSC caught by listed AFA C/Ps while fishing for pollock will accrue against the bycatch allowances annually specified for either the midwater pollock or the pollock/Atka mackerel/“other species” fishery categories under regulations at § 679.21(e)(3)(iv).

Table 12—Final 2011 and 2012 BSAI AFA Listed Catcher/Processor Prohibited Species Sideboard Limits
PSC species and area ¹ | Ratio of PSC catch to total PSC | 2011 and 2012 PSC available to trawl vessels after subtraction of PSQ ² | 2011 and 2012 catcher/processor sideboard limit ²
Halibut mortality BSAI | n/a | n/a | 286
Red king crab zone 1 | 0.007 | 175,921 | 1,231
C. opilio (COBLZ) | 0.153 | 7,421,259 | 1,135,453
C. bairdi:
Zone 1 | 0.14 | 741,190 | 103,767
Zone 2 | 0.05 | 2,250,360 | 112,518
¹ Refer to § 679.2 for definitions of areas.
² Halibut amounts are in metric tons of halibut mortality. Crab amounts are in numbers of animals.

AFA Catcher Vessel Sideboard Limits

Pursuant to § 679.64(a), the Regional Administrator is responsible for restricting the ability of AFA CVs to engage in directed fishing for groundfish species other than pollock to protect participants in other groundfish fisheries from adverse effects resulting from the AFA and from fishery cooperatives in the directed pollock fishery. Section 679.64(b) establishes a formula for setting AFA CV groundfish and PSC sideboard limits for the BSAI. The basis for these sideboard limits is described in detail in the final rules implementing the major provisions of the AFA (67 FR 79692, December 30, 2002) and Amendment 80 (72 FR 52668, September 14, 2007). Tables 13 and 14 list the 2011 and 2012 AFA CV sideboard limits.

All catch of groundfish sideboard species made by non-exempt AFA CVs, whether as targeted catch or incidental catch, will be deducted from the 2011 and 2012 sideboard limits listed in Table 13.

Table 13—Final 2011 and 2012 American Fisheries Act Catcher Vessel BSAI Groundfish Sideboard Limits
[Amounts are in metric tons]
Species | Fishery by area/gear/season | Ratio of 1995-1997 AFA CV catch to 1995-1997 TAC | 2011 initial TAC ¹ | 2011 AFA catcher vessel sideboard limits | 2012 initial TAC ¹ | 2012 AFA catcher vessel sideboard limits
Pacific cod | BSAI Jig gear | 0 | n/a | 0 | n/a | 0
| Hook-and-line CV Jan 1-Jun 10 | 0.0006 | 207 | 0 | 208 | 0
| Jun 10-Dec 31 | 0.0006 | 199 | 0 | 200 | 0
| Pot gear CV Jan 1-Jun 10 | 0.0006 | 8,685 | 5 | 8,749 | 5
| Sept 1-Dec 31 | 0.0006 | 8,345 | 5 | 8,406 | 5
| CV < 60 feet LOA using hook-and-line or pot gear | 0.0006 | 4,055 | 2 | 4,084 | 2
| Trawl gear CV Jan 20-Apr 1 | 0.8609 | 33,290 | 28,659 | 33,532 | 28,868
| Apr 1-Jun 10 | 0.8609 | 4,949 | 4,261 | 4,985 | 4,292
| Jun 10-Nov 1 | 0.8609 | 6,748 | 5,809 | 6,797 | 5,852
Sablefish | BS trawl gear | 0.0906 | 1,211 | 110 | 1,109 | 100
| AI trawl gear | 0.0645 | 404 | 26 | 370 | 24
Atka mackerel | Eastern AI/BS Jan 1-Jun 10 | 0.0032 | 17,994 | 58 | 16,431 | 53
| Jun 10-Nov 1 | 0.0032 | 17,994 | 58 | 16,431 | 53
| Central AI Jan 1-Jun 10 | 0.0001 | 5,037 | 1 | 4,596 | 0
| Jun 10-Nov 1 | 0.0001 | 5,037 | 1 | 4,596 | 0
| Western AI Jan 1-Jun 10 | 0 | n/a | 0 | n/a | 0
| Jun 10-Nov 1 | 0 | n/a | 0 | n/a | 0
Rock sole | BSAI | 0.0341 | 75,905 | 2,588 | 75,905 | 2,588
Greenland turbot | BS | 0.0645 | 2,975 | 192 | 2,975 | 192
| AI | 0.0205 | 1,318 | 27 | 1,233 | 25
Arrowtooth flounder | BSAI | 0.069 | 22,015 | 1,519 | 22,015 | 1,519
Kamchatka flounder | BSAI | 0.069 | 15,045 | 1,038 | 15,045 | 1,038
Alaska plaice | BSAI | 0.0441 | 13,600 | 600 | 13,600 | 600
Other flatfish | BSAI | 0.0441 | 2,550 | 112 | 2,550 | 112
Flathead sole | BS trawl gear | 0.0505 | 37,102 | 1,874 | 37,102 | 1,874
Pacific ocean perch | BS | 0.1 | 4,854 | 485 | 4,854 | 485
| Eastern AI | 0.0077 | 5,054 | 39 | 5,054 | 39
| Central AI | 0.0025 | 4,429 | 11 | 4,429 | 11
| Western AI | 0 | n/a | 0 | n/a | 0
Northern rockfish | BSAI | 0.0084 | 4,000 | 34 | 4,000 | 34
Shortraker rockfish | BSAI | 0.0037 | 393 | 1 | 393 | 1
Rougheye rockfish | EBS/EAI | 0.0037 | 234 | 1 | 240 | 1
| CAI/WAI | 0.0037 | 220 | 1 | 225 | 1
Other rockfish | BS | 0.0048 | 500 | 2 | 500 | 2
| AI | 0.0095 | 425 | 4 | 425 | 4
Squids | BSAI | 0.3827 | 361 | 138 | 361 | 138
Skates | BSAI | 0.0541 | 14,025 | 759 | 14,025 | 759
Sharks | BSAI | 0.0541 | 43 | 2 | 43 | 2
Octopuses | BSAI | 0.0541 | 128 | 7 | 128 | 7
Sculpins | BSAI | 0.0541 | 4,420 | 239 | 4,420 | 239
¹ Aleutian Islands Pacific ocean perch, and BSAI Atka mackerel, flathead sole, and rock sole are multiplied by the remainder of the TAC of that species after the subtraction of the CDQ reserve under § 679.20(b)(1)(ii)(C).

Halibut and crab PSC limits listed in Table 14 that are caught by AFA CVs participating in any groundfish fishery for groundfish other than pollock will accrue against the 2011 and 2012 PSC sideboard limits for the AFA CVs. Sections 679.21(d)(8) and 679.21(e)(3)(v) authorize NMFS to close directed fishing for groundfish other than pollock for AFA CVs once a 2011 or 2012 PSC sideboard limit listed in Table 14 is reached. The PSC that is caught by AFA CVs while fishing for pollock in the BSAI will accrue against the bycatch allowances annually specified for either the midwater pollock or the pollock/Atka mackerel/“other species” fishery categories under regulations at § 679.21(e)(3)(iv).

Table 14—Final 2011 and 2012 American Fisheries Act Catcher Vessel Prohibited Species Catch Sideboard Limits for the BSAI ¹
PSC species | Target fishery category ² | AFA catcher vessel PSC sideboard limit ratio | 2011 and 2012 PSC limit after subtraction of PSQ reserves | 2011 and 2012 AFA catcher vessel PSC sideboard limit
Halibut | Pacific cod trawl | n/a | n/a | 887
| Pacific cod hook-and-line or pot | n/a | n/a | 2
| Yellowfin sole total | n/a | n/a | 101
| Rock sole/flathead sole/other flatfish ³ | n/a | n/a | 228
| Greenland turbot/arrowtooth/sablefish ⁴ | n/a | n/a | 0
| Rockfish | n/a | n/a | 2
| Pollock/Atka mackerel/other species ⁵ | n/a | n/a | 5
Red king crab Zone 1 4, 6 | n/a | 0.299 | 175,921 | 52,600
C. opilio COBLZ 4, 6 | n/a | 0.168 | 7,421,259 | 1,246,771
C. bairdi Zone 1 4, 6 | n/a | 0.33 | 741,190 | 244,593
C. bairdi Zone 2 ⁶ | n/a | 0.186 | 2,250,360 | 418,567
¹ Halibut amounts are in metric tons of halibut mortality. Crab amounts are in numbers of animals.
² Target fishery categories are defined in regulation at § 679.21(e)(3)(iv).
³ “Other flatfish” for PSC monitoring includes all flatfish species, except for halibut (a prohibited species), flathead sole, Greenland turbot, rock sole, yellowfin sole, Kamchatka flounder, and arrowtooth flounder.
⁴ Arrowtooth for PSC monitoring includes Kamchatka flounder.
⁵ “Other species” for PSC monitoring includes octopuses, sculpins, sharks, and skates.
⁶ Refer to § 679.2 for definitions of areas.

AFA Catcher/Processor and Catcher Vessel Sideboard Directed Fishing Closures

Based upon historical catch patterns, the Regional Administrator has determined that many of the AFA C/P and CV sideboard limits listed in Tables 15 and 16 are necessary as incidental catch to support other anticipated groundfish fisheries for the 2011 fishing year. In accordance with § 679.20(d)(1)(iv), the Regional Administrator establishes the sideboard limits listed in Tables 15 and 16 as DFAs. Because many of these DFAs will be reached before the end of the year, the Regional Administrator has determined, in accordance with § 679.20(d)(1)(iii), that NMFS is prohibiting directed fishing by listed AFA C/Ps for the species in the specified areas set out in Table 15 and directed fishing by non-exempt AFA CVs for the species in the specified areas set out in Table 16.

Table 15—Final 2011 and 2012 American Fisheries Act Listed Catcher/Processor Sideboard Directed Fishing Closures ¹
[Amounts are in metric tons]
Species | Area | Gear types | 2011 sideboard limit | 2012 sideboard limit
Sablefish trawl | BS | trawl | 19 | 18
| AI | trawl | 0 | 0
Rock sole | BSAI | all | 2,808 | 2,808
Greenland turbot | BS | all | 21 | 21
| AI | all | 7 | 6
Arrowtooth flounder | BSAI | all | 44 | 44
Kamchatka flounder | BSAI | all | 30 | 30
Alaska plaice | BSAI | all | 14 | 14
Other flatfish | BSAI | all | 148 | 148
Flathead sole | BSAI | all | 1,336 | 1,336
Pacific ocean perch | BS | all | 10 | 10
| Eastern AI | all | 101 | 101
| Central AI | all | 4 | 4
| Western AI | all | 30 | 30
Northern rockfish | BSAI | all | 28 | 28
Shortraker rockfish | BSAI | all | 7 | 7
Rougheye rockfish | EBS/EAI | all | 4 | 4
| CAI/WAI | all | 4 | 4
Other rockfish | BS | all | 15 | 15
| AI | all | 11 | 11
Squids | BSAI | all | 8 | 8
Skates | BSAI | all | 112 | 112
Sharks | BSAI | all | 0 | 0
Octopuses | BSAI | all | 1 | 1
Sculpins | BSAI | all | 35 | 35
¹ Maximum retainable amounts may be found in Table 11 to 50 CFR part 679.

Table 16—Final 2011 and 2012 American Fisheries Act Catcher Vessel Sideboard Directed Fishing Closures ¹
[Amounts are in metric tons]
Species | Area | Gear types | 2011 sideboard limit | 2012 sideboard limit
Pacific cod | BSAI | hook-and-line | 0 | 0
| BSAI | pot | 10 | 10
| BSAI | CV < 60 feet LOA | 2 | 2
| BSAI | jig | 0 | 0
Sablefish | BS | trawl | 110 | 100
| AI | trawl | 26 | 24
Atka mackerel | Eastern AI/BS | all | 116 | 106
| Central AI | all | 2 | 0
| Western AI | all | 0 | 0
Greenland turbot | BS | all | 192 | 192
| AI | all | 27 | 25
Arrowtooth flounder | BSAI | all | 1,519 | 1,519
Kamchatka flounder | BSAI | all | 1,038 | 1,038
Alaska plaice | BSAI | all | 600 | 600
Other flatfish | BSAI | all | 112 | 112
Flathead sole | BSAI | all | 1,874 | 1,874
Rock sole | BSAI | all | 2,588 | 2,588
Pacific ocean perch | BS | all | 485 | 485
| Eastern AI | all | 39 | 39
| Central AI | all | 11 | 11
| Western AI | all | 0 | 0
Northern rockfish | BSAI | all | 34 | 34
Shortraker rockfish | BSAI | all | 1 | 1
Rougheye rockfish | BS/EAI | all | 1 | 1
| CAI/WAI | all | 1 | 1
Other rockfish | BS | all | 2 | 2
| AI | all | 4 | 4
Squids | BSAI | all | 138 | 138
Skates | BSAI | all | 759 | 759
Sharks | BSAI | all | 2 | 2
Octopuses | BSAI | all | 7 | 7
Sculpins | BSAI | all | 239 | 239
¹ Maximum retainable amounts may be found in Table 11 to 50 CFR part 679.

Response to Comments

NMFS received 9 letters of comment, from 6 CDQ groups and three non-CDQ industry participants, which included 4 distinct comments, in response to the proposed 2011 and 2012 harvest specifications. These comments are summarized and responded to below.

Comment 1: The comment asserts that the pollock ABCs and TACs are too high, based on anecdotal observations.

Response: The harvest specifications process is intended to foster conservation and management of marine resources. This process incorporates the best available scientific information from the most recent stock assessment and fisheries evaluation reports prepared by multi-disciplinary teams of scientists. Such reports contain the most recent scientific information on the condition of various groundfish stocks, as well as the condition of other ecosystem components and economic data about Alaska groundfish fisheries. This body of information allows the Council to make scientifically-based recommendations for annual catch limits that do not exceed, on a species by species basis, the OFLs and ABCs established for each BSAI target species managed under the FMP. NMFS believes that the 2011 and 2012 are the correct pollock ABCs and TACs, based upon this process.

Comment 2: NMFS should account for the bycatch of groundfish in fisheries such as the State managed salmon fisheries.

Response: NMFS is actively engaged in a process to improve the catch accounting system to more accurately account for the bycatch of groundfish in other fisheries, including State managed fisheries. NMFS agrees with this comment. However, this is beyond the scope of this action.

Comment 3: The 10,000 mt ICA for rock sole is largely based upon high levels of yellowfin sole harvest by the BSAI trawl limited access sector. For 2011 and 2012, the BSAI trawl limited access harvest is likely to be smaller, and a 5,000 mt for rock sole is more appropriate.

Response: NMFS agrees with this comment, and NMFS adjusted the ICA of rock sole to 5,000 metric tons.

Comment 4: Six CDQ groups commented that the new Kamchatka flounder fishery is too small to be a meaningful CDQ fishery and could inhibit the prosecution of other CDQ fisheries. Thus, Kamchatka flounder should not be a CDQ fishery at this time.

Response: In the proposed 2011 and 2012 harvest specifications NMFS requested comments about whether Kamchatka flounder was a directed fishery of the BSAI under section 305(i)(1)(B)(ii)(II) of the MSA. If it were, NMFS would allocate 10.7 percent of the Kamchatka flounder TAC to the CDQ Program. NMFS specifically requested comments from the CDQ groups about the economic value of Kamchatka flounder and whether the CDQ groups intend to conduct directed fishing for Kamchatka flounder in the future. Based on the comments received, NMFS has determined that Kamchatka flounder is not a directed fishery of the BSAI under section 305(i)(1)(B)(ii)(II). Therefore, NMFS will not allocate Kamchatka flounder to the CDQ Program in the final 2011 and 2012 harvest specifications. However, NMFS will consider allocating Kamchatka flounder to the CDQ Program in the future if information is presented in future harvest specifications that the status of Kamchatka flounder as a directed fishery of the BSAI has changed.

Classification

NMFS has determined that these final harvest specifications are consistent with the FMP and with the Magnuson-Stevens Act and other applicable laws.

This action is authorized under 50 CFR 679.20 and is exempt from review under Executive Orders 12866 and 13563.

NMFS prepared an EIS for this action (see ADDRESSES) and made it available to the public on January 12, 2007 (72 FR 1512). On February 13, 2007, NMFS issued the Record of Decision (ROD) for the EIS. In January 2011, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2011 and 2012 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2011 and 2012 harvest specifications, which were set according to the preferred harvest strategy in the EIS, do not constitute a change in the action; and (2) there are no significant new circumstances or information relevant to environmental concerns and bearing on the action or its impacts. Additionally, the 2011 and 2012 harvest specifications will result in environmental impacts within the scope of those analyzed and disclosed in the EIS. Therefore, supplemental National Environmental Protection Act (NEPA) documentation is not necessary to implement the 2011 and 2012 harvest specifications.

NMFS also prepared an Initial Regulatory Flexibility Analysis (IRFA) as required by section 603 of the Regulatory Flexibility Act, analyzing the methodology for establishing the relevant TACs. The IRFA evaluated the impacts on small entities of alternative harvest strategies for the groundfish fisheries in the EEZ off Alaska. Accordingly, NMFS used the IRFA prepared for the EIS in association with this action. NMFS published a notice of the availability of the IRFA and its summary in the Classification section of the proposed 2006 and 2007 harvest specifications for the groundfish fisheries in the BSAI in the Federal Register on December 15, 2006 (71 FR 75437). No comments were received regarding the IRFA or the economic effects of the TAC-setting methodology.

NMFS also prepared a final regulatory flexibility analysis (FRFA), as required by section 604 of the Regulatory Flexibility Act. Copies of the FRFA prepared for this action are available from NMFS, Alaska Region (see ADDRESSES). The FRFA analyzed the methodology for establishing the relevant TACs. As set forth in the methodology, TACs are set to a level that fall within the range of ABCs recommended by the SSC; the sum of the TACs must achieve optimum yield specified in the FMP. While the specific numbers that the methodology may produce vary from year to year, the methodology itself remains constant. Accordingly, NMFS is using the FRFA prepared for the EIS in association with this action. Pursuant to sections 3.2.2 and 3.2.3 of the FMP, the established methodology produces ABCs and TACs within specified ranges and the numbers in this final rule's preferred alternatives are within those ranges.

In addition, NMFS considers the annual rulemakings establishing the harvest specification numbers to be a series of closely-related rules stemming from the harvest strategy and representing one rule for purposes of the Regulatory Flexibility Act (5 U.S.C. 605(c)). The need for, and objectives of, this final rule are described in the preamble. A summary of the 2007 FRFA follows. This action is taken in accordance with the FMP prepared by the Council pursuant to the Magnuson-Stevens Act.

There are 244 directly regulated small entities including approximately 223 small CVs, 15 small C/Ps, and six CDQ groups. The entities directly regulated by this action harvest groundfish in the EEZ of the BSAI, and in parallel fisheries within State of Alaska waters. These include entities operating CVs and C/Ps within the action area, and entities receiving direct allocations of groundfish. CVs and C/Ps were considered to be small entities if their annual gross receipts of $4 million per year or less from all economic activities, including the revenue of their affiliated operations (see Table 37 to the Economic Status of the Groundfish Fisheries off Alaska, 2005, in the 2006 SAFE report, dated February 2007, available from the Council (see ADDRESSES)).

Estimates of gross product value for the BSAI non-CDQ and CDQ groundfish were used as an index of revenue and potential impacts of the alternative harvest strategies on small entities. Revenues were projected to decline from 2006 levels in 2007 and 2008 under the preferred alternative due to declines in ABCs for key species, but by relatively small amounts.

The preferred alternative (Alternative 2) was compared to four other alternatives. These included Alternative 1, which would have set TACs to generate fishing rates equal to the maximum permissible ABC (if the full TAC were harvested), unless the sum of TACs exceeded the BSAI OY, in which case harvests would be limited to the OY. Alternative 3 would have set TACs to produce fishing rates equal to the most recent 5-year average fishing rate. Alternative 4 would have set TACs to equal the lower limit of the BSAI OY range. Alternative 5—the “no action” alternative—would have set TACs equal to zero.

Alternatives 3, 4, and 5 were all associated with smaller levels for important fishery TACs than Alternative 2. Estimated total gross product values were used as an index of potential adverse impacts to small entities. As a consequence of the lower TAC levels, Alternatives 3, 4, and 5 all had smaller first wholesale revenue indices than Alternative 2. Thus, Alternatives 3, 4, and 5 had greater adverse impacts on small entities. Alternative 1 appeared to generate higher values of the gross revenue index for fishing operations in the BSAI than Alternative 2. A large part of the Alternative 1 BSAI revenue appears to be due to the assumption that the full Alternative 1 TAC would be harvested. Much of the larger revenue was due to increases in flatfish TACs that were much greater for Alternative 1 than for Alternative 2. In recent years, halibut bycatch constraints in these fisheries have kept actual flatfish catches from reaching Alternative 1 levels. Therefore, a large part of the revenues associated with Alternative 1 are unlikely to occur. Also, Alternative 2 TACs are constrained by the ABCs the Plan Teams and SSC are likely to recommend to the Council on the basis of a full consideration of biological issues. These ABCs are often less than Alternative 1's maximum permissible ABCs; therefore higher TACs under Alternative 1 may not be consistent with prudent biological management of the resource. For these reasons, Alternative 2 is the preferred alternative.

In addition to the IRFA prepared in association with the groundfish harvest specifications EIS, NMFS prepared a supplemental IRFA (SIRFA) in conjunction with the proposed harvest specifications (see ADDRESSES). The SIRFA evaluated the specification of separate OFLs and TACs for octopuses, sculpins, sharks, and skates in the BSAI, consistent with the previously selected harvest strategy, the tier system used to set OFL (per the FMP), Amendments 95 and 96 to the FMP, the Magnuson-Stevens Act, and other applicable law (see ADDRESSES). Amendments 95 and 96 to the FMP were published on October 6, 2010 (75 FR 61639), and split the “other species” complex into its component species of octopuses, sculpins, sharks, and skates.

This supplemental Final Regulatory Flexibility Analysis (SFRFA) incorporates the SIRFA, a summary of the significant issues raised by the public comments in response to the IRFA, NMFS' responses to those comments, and provides a summary of the analyses completed to support the action. The SFRFA augments the FRFA prepared in connection with the 2007 Alaska Groundfish Harvest Specification EIS. NMFS published the proposed harvest specifications on December 8, 2010 (75 FR 76372) with comments invited through January 7, 2011. A SIRFA was prepared and summarized in the “Classification” section of the proposed rule. The description of this action, its purpose, and its legal basis are described in the preamble to the proposed rule and are not repeated here. No public comments were specifically received on the SIRFA. No changes were made from the proposed rule to the final rule.

The 2010 Economic Status of Groundfish Fisheries Off Alaska report, prepared in conjunction with the 2010 SAFE report (see ADDRESSES), identifies 209 small groundfish entities operating in the BSAI, with average revenues from all sources of about $1.37 million. Most of these (191) are C/Vs. A majority of the C/Vs (107) used trawl gear and had average revenues of about $1.49 million. There were 38 hook-and-line C/Vs, with average revenues of about $600,000, and 51 pot C/Vs with average revenues of $1.37 million. There were five C/Vs that used multiple gear types and are counted in at least two of the preceding figures. There were 18 C/Ps, mostly hook-and-line vessels, with average gross revenues of about $2.53 million. The 2010 SAFE report may overstate the number of small entities because it considers individual vessel gross revenues, but does not capture affiliations among vessels. All of these small entities would be directly regulated by the proposed action. As described below, however, certain small entities may be more likely than others to be adversely affected by the proposed action as a result of potential impacts associated with the incidental catch of octopuses, sculpins, sharks, and skates in other target fisheries.

This action does not modify recordkeeping or reporting requirements.

NMFS considered several alternatives to the action to specify separate OFLs and TACS for BSAI octopuses, sculpins, sharks, and skates species complexes. However, each of these alternatives has been eliminated from further consideration because it either does not minimize significant economic impacts on a substantial number of small entities or does not accomplish the stated objectives of, or is in conflict with the requirements of, applicable statutes.

This action is intended to fulfill the agency's mandate to establish catch limits that are based on the best available scientific information, and to achieve optimum yield while preventing overfishing. This action adopts the alternative that is both consistent with the agency's obligations under the Magnuson-Stevens Act and the FMP and minimizes the likelihood that the specification of TACs and OFLs for the octopuses, sculpins, sharks, and skates species complexes will adversely affect small entities.

NMFS considered dividing the TACs for each of the species complexes among different regulatory areas in the BSAI. Any such further division of the TACs would not change the total TACs for each species complex in the BSAI as a whole. However, the incidental catch of fishing vessels that operate within each of the regulatory areas would be counted against a reduced TAC and OFL, which would increase the likelihood that the TAC or OFL would be reached and that one or more area closures may be triggered.

NMFS considered exempting small entities from compliance with the TACs for each of the species complexes evaluated in the SIRFA. However, the Magnuson-Stevens Act requires NMFS to implement conservation and management measures that prevent overfishing. Authorizing unlimited incidental catch of these species complexes by small entities would present an unacceptable risk of overfishing, and would not be consistent with the agency's obligations under Magnuson-Stevens Act, nor with the requirements of the Council's FMP.

In order to minimize the economic impacts of this action, NMFS considered allocating relatively large portions of the TACs for each of the species complexes to potentially affected small entities. However, any such allocation, which would be motivated solely by economic considerations under the Regulatory Flexibility Act, would not be consistent with National Standard 5, which states that “no [conservation and management measure] shall have economic allocation as its sole purpose.” 16 U.S.C. 1851(a)(5).

Finally, NMFS considered establishing a single group TAC for all four of the species complexes in the BSAI, which would substantially reduce the likelihood that incidental catch would reach or exceed the TAC or OFL and result in area closures of target fisheries. However, the establishment of a stock complex comprised of species with such disparate life histories would not be consistent with the statutory requirement to establish catch limits that prevent overfishing for stocks in the fishery, nor with the Council's intent in enacting Amendments 95 and 96.

Adverse impacts on marine mammals resulting from fishing activities conducted under this rule are discussed in the EIS (see ADDRESSES).

Pursuant to 5 U.S.C. 553(d)(3), the Assistant Administrator for Fisheries, NOAA, finds good cause to waive the 30-day delay in effectiveness for this rule. Plan Team review occurred in November 2010, and Council consideration and recommendations occurred in December 2010. Accordingly, NMFS review could not begin until January 2011. For all fisheries not currently closed because the TACs established under the final 2010 and 2011 harvest specifications (75 FR 11778, March 12, 2010) were not reached, the possibility exists that they would be closed prior to the expiration of a 30-day delayed effectiveness period, if implemented, because their TACs could be reached. Certain fisheries, such as those for pollock and Pacific cod are intensive, fast-paced fisheries. Other fisheries, such as those for flatfish, rockfish, octopuses, sculpins, sharks, skates, and squids, are critical as directed fisheries and as incidental catch in other fisheries. U.S. fishing vessels have demonstrated the capacity to catch the TAC allocations in these fisheries. Any delay in allocating the final TACs in these fisheries would cause confusion to the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

In fisheries subject to declining sideboards, a failure to implement the updated sideboards before initial season's end could preclude the intended economic protection to the non-sideboarded sectors. Conversely, in fisheries with increasing sideboards, economic benefit could be precluded to the sideboarded sectors.

If the final harvest specifications are not effective by March 12, 2011, which is the start of the 2011 Pacific halibut season as specified by the IPHC, the hook-and-line sablefish fishery will not begin concurrently with the Pacific halibut IFQ season. Delayed effectiveness of this action would result in confusion for sablefish harvesters and economic harm from unnecessary discard of sablefish that are caught along with Pacific halibut, as both hook-and-line sablefish and Pacific halibut are managed under the same IFQ program. Immediate effectiveness of the final 2011 and 2012 harvest specifications will allow the sablefish IFQ fishery to begin concurrently with the Pacific halibut IFQ season. Also, the immediate effectiveness of this action is required to provide consistent management and conservation of fishery resources based on the best available scientific information. This is particularly true of those species which have lower 2011 ABCs and TACs than those established in the 2010 and 2011 harvest specifications (75 FR 11778, March 12, 2010). Immediate effectiveness also would give the fishing industry the earliest possible opportunity to plan and conduct its fishing operations with respect to new information about TAC limits. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2011 and 2012 harvest specifications and prohibited species bycatch allowances for the groundfish fisheries of the BSAI. This action is necessary to establish harvest limits and associated management measures for groundfish during the 2011 and 2012 fishing years and to accomplish the goals and objectives of the FMP. This action affects all fishermen who participate in the BSAI fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: February 23, 2011.
Samuel D. Rauch III,
Deputy Assistant Administrator for Regulatory Programs, National Marine Fisheries Service.

[FR Doc. 2011-4538 Filed 2-28-11; 8:45 am]

BILLING CODE 3510-22-P